DEPARTMENT OF AGRICULTURE

Agricultural Marketing Service

7 CFR Parts 1000, 1001, 1005, 1006, 1007, 1030, 1032, 1033, 1051, 1124, 1126, 1131, and 1170

[Doc. No. AMS-DA-23-0031]

Milk in the Northeast and Other Marketing Areas; Uniform Pricing Formula Provisions

AGENCY: Agricultural Marketing Service, USDA.

ACTION: Final rule.

SUMMARY: This final rule amends the pricing provisions in the 11 Federal Milk Marketing Orders (FMMOs). Separate producer referenda held in each of the 11 FMMOs obtained the necessary two-thirds vote in favor of adoption of the amendments as proposed. Accordingly, the Agricultural Marketing Service (AMS) is issuing this final rule amending all 11 FMMOs in accordance with the Agricultural Marketing Agreement Act of 1937, as amended (AMAA).

DATES: This final rule is effective June 1, 2025, except for in amendatory instruction 3a (7 CFR 1000.50(f), (i), (k), and (q)(1) and (2)), which is effective December 1, 2025.

ADDRESSES: To review the hearing record or obtain information on the amendments, please see https://www.ams.usda.gov/rules-regulations/moa/dairy/hearings/national-fmmo-pricing-hearing.

FOR FURTHER INFORMATION CONTACT: Erin Taylor, USDA/AMS/Dairy Programs, Order Formulation and Enforcement Division, STOP 0231-Room 2530, 1400 Independence Avenue SW, Washington, DC 20250-0231, Telephone: (202) 720-4392, Email address: Erin.Taylor@usda.gov.

SUPPLEMENTARY INFORMATION: This rule, in accordance with 7 CFR 900.14(c), is the Secretary's final rule in this proceeding amending the pricing provisions applicable to milk regulated in the Northeast and other marketing areas as defined in 7 CFR 900.2(j) and issued under 7 CFR parts 1000, 1001, 1005, 1006, 1007, 1030, 1032, 1033, 1051, 1124, 1126, and 1131. This final rule adopts the amendments detailed in the proposed rule (89 FR 95466) (final decision), as follows:

1. Milk Composition Factors. FMMO milk prices are based on three primary components: protein, other solids, and nonfat solids. Skim milk composition factors in the current price formulas codified in the FMMO regulations were adopted in 2000: 3.1 percent protein, 5.9 percent other solids, and 9 percent nonfat solids. This final rule increases the milk composition factors to 3.3 percent protein, 6.0 percent other solids, and 9.3 percent nonfat solids. Actual component tests of skim milk have increased since 2000, with more significant increases beginning in 2016. The amendments will more accurately represent component levels in milk produced. In the final decision, AMS proposed a 6-month implementation lag for the amended composition factors. As such, the amendments to the regulations at 7 CFR 1000.50(f), (i), (k), (q)(1) and (2) relative to skim milk composition factors, will be implemented on December 1, 2025. See the subsequent implementation section for further detail.

2. Surveyed Commodity Products. Milk prices under FMMOs are related to wholesale prices for butter, cheese, nonfat dry milk, and dry whey. The formulas use U.S. Department of Agriculture (USDA)-surveyed average wholesale prices to calculate milk component prices (butterfat, protein, nonfat solids, and other solids) that are converted to Class III and IV milk prices. The protein value in cheese is a component of the Class III price. Currently, the prices of commodity cheddar cheese packaged in 40-lb blocks (“blocks”) and 500-lb barrels (“barrels”) are collected weekly by AMS through the Dairy Products Mandatory Reporting Program (DPMRP) survey. A monthly average of those prices is used to represent commodity cheese in the Class III price formula. The butterfat value in commodity salted butter is the driver of the butterfat price used in all classified prices. This final rule eliminates 500-lb barrels from the DPMRP survey. DPMRP will rely solely on the 40-pound block cheddar cheese price to determine the monthly average cheese price used in the formulas. The amendment will provide for more orderly marketing through a survey of only one product. These changes will be implemented on June 1, 2025.

3. Class III and Class IV Formula Factors. Make allowances are a factor in the FMMO pricing formulas representing the cost of converting raw milk into the four manufactured dairy products surveyed by the USDA (butter, cheese, nonfat dry milk (NFDM), and dry whey). Make allowances were last updated in 2008 following a rulemaking proceeding in 2007. This final rule updates the make allowances in the FMMO Class III and IV formulas as follows: $0.2519 for cheese; $0.2272 for butter; $0.2393 for NFDM; and $0.2668 for dry whey. This final rule also updates the butterfat recovery factor in the Class III formula to 91 percent. The amendments will update the formula factors to be more representative of current costs and butterfat recovery observed in dairy product manufacturing. These changes will be implemented on June 1, 2025.

4. Base Class I Skim Milk Price (Class I mover). The Class I mover is the base price for the skim milk portion of raw milk used in the production of Class I products. The Agriculture Improvement Act of 2018 (2018 Farm Bill) amended the Class I skim milk price mover from the “higher of” Class III or Class IV skim prices to a simple average of the two classes plus $0.74, referred to as the “average of” mover. This final rule returns the base Class I skim milk price calculation to the higher-of Class III or Class IV skim prices. This final rule also adopts a rolling monthly Class I ESL adjustment equating to a Class I price for all ESL products equal to the average-of the Class III and Class IV advance prices, plus a 24-month rolling average adjuster, with a 12-month lag. The monthly Class I ESL adjustment will be calculated as the average of the differences between the higher-of and the average-of calculations for the prior 13 to 36 months. The amendments will provide for more orderly marketing by returning to the higher-of mover; while the Class I ESL adjustment will provide better price equity for ESL products whose marketing characteristics are distinct from other Class I products. These changes will be implemented on June 1, 2025.

5. Class I and Class II differentials. FMMO Class I prices are calculated as the average of the advanced Class III and Class IV prices, plus $0.74, plus a location-specific differential referred to as a Class I differential. As the value of milk varies by location, Class I differentials have been determined for every county in the continental U.S. Current Class I differential levels were implemented January 1, 2000, with updates to the differentials in the three southeastern orders taking effect May 1, 2008. This final rule retains the $1.60 base differential and adopts modified location-specific Class I differential values. The amendments recognize the evolution of the dairy industry since 2000 and the increased cost of servicing the Class I market given current transportation costs and plant and producer locations. These changes will be implemented on June 1, 2025.

The amendments to the FMMOs are based on the record of a 49-day public hearing held August 23-October 11, 2023, November 27-December 8, 2023, January 16-19, 2024, and January 29-31, 2024, in Carmel, Indiana. The hearing was held to receive evidence on 21 proposals in the 5 pricing subject areas submitted by dairy farmers, handlers, and other interested parties. Notice of this hearing was published in the Federal Register on July 24, 2023 (88 FR 47396), pursuant to the provisions of the AMAA and the applicable rules of practice and procedure (7 CFR part 900). Notices of the reconvened hearing were subsequently published on November 6, 2023 (88 FR 76143) and December 29, 2023 (88 FR 90134). During the hearing, AMS received testimony from a total of 165 witnesses. Witnesses provided an overview of the complexity of the U.S. dairy industry and submitted 511 exhibits containing supporting data, analyses, and historical information.

Considering record evidence, AMS published its recommended and final decisions in the Federal Register on the proposed amendments to the milk pricing formulas on July 15, 2024 (89 FR 57580) and December 2, 2024 (89 FR 95466), respectively. AMS also considered proposed findings submitted in post-hearing briefs, officially noticed documents, and comments and exceptions filed in response to the recommended decision when preparing its recommended and final decisions.

In conjunction with the final decision, AMS conducted a Regulatory Economic Impact Analysis to determine the potential impact of amending FMMO pricing formulas on producer revenue and marketwide pool values. The full Regulatory Economic Impact Analysis may be accessed at https://www.regulations.gov or https://www.ams.usda.gov/rules-regulations/moa/dairy/hearings/national-fmmo-pricing-hearing.

Following publication of the final decision, AMS conducted separate producer referenda in each of the 11 FMMOs to determine support for or opposition to the proposed amendments to the milk pricing formulas. The referendum period ending December 31, 2024, confirmed support for the proposed amendments in all 11 FMMOs. More specifically, all referenda resulted in the necessary two-thirds approval of eligible producers participating in the referendum. As explained in the final decision, eligible producers were those engaged in the production of milk for sale, as defined under the terms of the orders, within the marketing areas of the Northeast, Appalachian, Florida, Southeast, Upper Midwest, Central, Mideast, California, Pacific Northwest, Southwest, and Arizona FMMOs during January 2024, the representative period.

Prior Documents in This Proceeding

Notice of Hearing: Published July 24, 2023 (88 FR 47396).

Notice of Reconvened Hearing: Published November 6, 2023 (88 FR 76143).

Notice of Reconvened Hearing: Published December 29, 2023 (88 FR 90134).

Recommended Decision: Published July 15, 2024 (89 FR 57580).

Final Decision: Published December 2, 2024 (89 FR 95466).

This administrative action is governed by sections 556 and 557 of title 5 of the United States Code and, therefore, is excluded from the requirements of Executive Orders 12866, 13563, 13175, and 14094.

The amendments to the regulations adopted herein have also been reviewed under Executive Order 12988, Civil Justice Reform. They are not intended to have a retroactive effect. The amendments do not preempt any State or local laws, regulations, or policies, unless they present an irreconcilable conflict with this rule.

The AMAA provides that administrative proceedings must be exhausted before parties may file suit in court. Under section 608c(15)(A) of the AMAA, any handler subject to an order may request modification or exemption from such order by filing a petition with the USDA stating that the order, any provision of the order, or any obligation imposed in connection with the order is not in accordance with the law. A handler is afforded the opportunity for a hearing on the petition. After a hearing, the USDA would rule on the petition. The AMAA provides that the district court of the United States in any district in which the handler is an inhabitant, or has its principal place of business, has jurisdiction in equity to review the USDA's ruling on the petition, provided a bill in equity is filed not later than 20 days after the date of the entry of the ruling.

Civil Rights Impact Analysis

AMS has reviewed this rulemaking in accordance with USDA Departmental Regulation 4300-004, Civil Rights Impact Analysis, to identify any major civil rights impacts the rule might have on FMMO participants on the basis of race, color, national origin, disability, sex, gender identity, political beliefs, age, marital, family/parental status, religion, sexual orientation, reprisal, or because an individual's income is derived from any public assistance program. Based on the review and analysis of the rule and all available data, issuance of this final rule is not likely to negatively impact low and moderate-income populations, minority populations, women, Tribes or persons with disabilities, by virtue of their age, race, color, national origin, sex, disability, or marital or familial status. No major civil rights impact is likely to result from this final rule.

Regulatory Flexibility Act and Paperwork Reduction Act

In accordance with the Regulatory Flexibility Act (RFA) (5 U.S.C. 601 et seq.), the AMS has considered the economic impact of this action on small entities. Accordingly, AMS has prepared this final regulatory flexibility analysis. The purpose of the RFA is to fit regulatory actions to the scale of businesses subject to such actions so that small businesses will not be unduly or disproportionately burdened. Marketing orders and amendments thereto are unique in that they are normally brought about through group action of essentially small entities for their own benefit. A small dairy farm as defined by the Small Business Administration (SBA) (13 CFR 121.201) (NAICS Code 112120) is one that has an annual gross revenue of $3.75 million or less, and a small dairy products manufacturer is one that has no more than the number of employees listed in the chart below:

NAICS code | NAICS U.S. industry title | Size standards in number of employees
311511 | Fluid Milk Manufacturing | 1,150
311512 | Creamery Butter Manufacturing | 750
311513 | Cheese Manufacturing | 1,250
311514 | Dry, Condensed, and Evaporated Dairy Product Manufacturing | 1,000

To determine which dairy farms are “small businesses,” the $3.75 million per year income limit was used to establish an annual milk marketing threshold of 18.3 million pounds. Although this threshold does not factor in additional monies that may be received by dairy producers, it should be an accurate standard for most “small” dairy farmers. Based on the U.S. 2023 average yield per cow and 2023 National Agricultural Statistics Service (NASS) average All-Milk price, a dairy farm with approximately 780 cows or fewer meets the definition of small business. In 2022, the most recent year with statistics available, there were 24,470 dairy farms with milk sales, of which approximately 19,576 had milk regulated on an FMMO for at least one month of the year. Based on the 2022 Census of Agriculture, Milk Cow Herd Size by Inventory and Sales, an estimated 89 percent of operations with milk sales are likely to be small businesses.

To determine a handler's size, if the plant is part of a larger company operating multiple plants that collectively exceed the 750-employee limit for creamery butter manufacturing; the 1,000-employee limit for dry, condensed, and evaporated dairy product manufacturing; the 1,150-employee limit for fluid milk manufacturing; or the 1,250-employee limit for cheese manufacturing; the plant was considered a large business even if the local plant does not exceed the 750, 1,000, 1,150, or 1,250-employee limit, respectively.

In 2022, the following number of plants were regulated for at least one month of the year in each FMMO: 66 plants on the Northeast, 19 plants on the Appalachian, 9 plants on the Florida, 20 plants on the Southeast, 58 plants on the Upper Midwest, 32 plants on the Central, 43 plants on the Mideast, 24 plants on California, 17 plants on the Pacific Northwest, 26 plants on the Southwest, and 8 plants on Arizona. According to the 2022 Census of Agriculture, approximately 86 percent of fluid milk manufacturing plants, approximately 96 percent of cheese plants, approximately 82 percent of dry products plants, and approximately 78 percent of butter plants met the SBA definition of small businesses.

Impact on Small Businesses

An economic analysis was performed and issued in conjunction with the final decision on impacts the amendments will have on industry participants, including producers and handlers. It can be found on the AMS website at https://www.ams.usda.gov/rules-regulations/moa/dairy/hearings/national-fmmo-pricing-hearing. The amendments are applied identically to all proprietary and cooperative handlers regulated by FMMOs, regardless of their size. The amendments implement prices that more accurately reflect current market conditions, providing for more orderly marketing for both small and large producers and handlers.

AMS considered alternatives to each of the amendments. Over 49 days of hearing, dozens of witnesses from 9 industry stakeholder groups presented testimony and evidence on 21 proposals in the 5 pricing subject areas. AMS considered all evidence and testimony, including alternative proposals presented, in making its recommendations.

A review of reporting requirements was completed under the Paperwork Reduction Act of 1995 (44 U.S.C. chapter 35). It was determined that these amendments will have no impact on reporting, recordkeeping, or other compliance requirements because they will remain identical to the current requirements. No new forms are proposed, and no additional reporting requirements will be necessary.

This final rule does not require additional information collection that requires clearance by the Office of Management and Budget (OMB) beyond currently approved information collection. The primary sources of data used to complete the forms are routinely used in most business transactions. Forms require only a minimal amount of information which can be supplied without data processing equipment or a trained statistical staff. Thus, since the information is already provided, no new information collection requirements are needed, and the current information collection and reporting burden is relatively small. Requiring the same reports for all handlers does not significantly disadvantage any handler that is smaller than the industry average.

AMS is committed to complying with the E-Government Act, to promote the use of the internet and other information technologies to provide increased opportunities for citizen access to Government information and services, and for other purposes.

No other burdens are expected to fall on the dairy industry as a result of this rulemaking. This rulemaking does not duplicate, overlap, or conflict with any existing Federal rules.

Implementation

This final rule amends the 11 FMMOs with an implementation date of June 1, 2025, except for the amendments to skim milk composition factors, which have a later implementation date. Therefore, all milk marketed on or after the month of June 1, 2025, will reflect the amendments to surveyed commodity products, Class III and Class IV formula factors, base Class I Skim Milk Price, and Class I differentials in both the advanced prices and pricing factors released before the start of the month and the class and component prices announced after the close of the month. Advanced prices and pricing factors for the month of June 2025 will be announced on May 21, 2025, and class and component pricing for June 2025 will be announced on July 2, 2025.

The amendments to 7 CFR 1000.50(f), (i), (k), (q)(1) and (2) which pertain to skim milk composition factors have an implementation date of December 1, 2025. Therefore, as of December 1, 2025, all milk marketed on or after December 1, 2025, will reflect all the amendments made effective by this rule. Advanced prices and pricing factors for the month of December 2025 will be announced on November 19, 2025, and class and component prices for December 2025 will be announced on December 31, 2025. Additional information regarding implementation is available on the AMS website.

Findings and Determinations

The findings and determinations hereinafter set forth supplement those that were made when the FMMOs were first issued and when they have been amended. The previous findings and determinations are hereby ratified and confirmed, except where they may conflict with those set forth herein.

The following findings are hereby made with respect to the Northeast, Southeast, Appalachian, Florida, Upper Midwest, Central, Mideast, California, Southwest, Pacific Northwest, and Arizona FMMOs:

(a) Findings upon the basis of the hearing record.

A public hearing was held upon certain proposed amendments to the marketing agreements and to the orders regulating the handling of milk in the Northeast, Southeast, Appalachian, Florida, Upper Midwest, Central, Mideast, California, Southwest, Pacific Northwest, and Arizona marketing areas. The hearing was held pursuant to the provisions of the AMAA, as amended (7 U.S.C. 601-674), and the applicable rules of practice and procedure (7 CFR part 900).

Upon the basis of the evidence introduced at the hearing and the record thereof, it is found that:

(1) The said orders as hereby amended, and all of the terms and conditions thereof, will tend to effectuate the declared policy of the AMAA;

(2) The parity prices of milk, as determined pursuant to section 2 of the AMAA, are not reasonable in view of the price of feeds, available supplies of feeds, and other economic conditions which affect market supply and demand for milk in the aforesaid marketing area. The minimum prices specified in the orders as hereby amended are such prices as will reflect the aforesaid factors, ensure a sufficient quantity of pure and wholesome milk, and be in the public interest; and

(3) The said orders, as hereby amended, regulate the handling of milk in the same manner as, and are applicable only to persons in the respective classes of industrial or commercial activity specified in, marketing agreements upon which a hearing has been held.

(b) Additional Findings. The amendments to these orders are known to handlers. The final decision containing the proposed amendments to this order was issued on November 12, 2024, and published in the Federal Register on December 2, 2024 (89 FR 95466).

(c) Determinations. It is hereby determined that:

(1) The refusal or failure of handlers (excluding cooperative association specific in section 8c(9) of the AMAA) of more than 50 percent of the milk marketed within the specified marketing areas, to sign a proposed marketing agreement, tends to prevent the effectuation of the declared policy of the AMAA;

(2) The issuance of this order amending the Northeast, Southeast, Appalachian, Florida, Upper Midwest, Central, Mideast, California, Southwest, Pacific Northwest, and Arizona FMMOs is the only practical means pursuant to the declared policy of the AMAA of advancing the interests of producers as defined in the orders as hereby amended; and

(3) The issuance of this order amending the Northeast, Southeast, Appalachian, Florida, Upper Midwest, Central, Mideast, California, Southwest, Pacific Northwest, and Arizona FMMOs is favored by at least two-thirds of the producers engaged in the production of milk for sale, as defined under the terms of the orders, within the aforementioned marketing areas during January 2024, the representative period.

Order Amending the Orders Regulating the Handling of Milk in the Northeast, Appalachian, Florida, Southeast, Upper Midwest, Central, Mideast, California, Pacific Northwest, Southwest, and Arizona Marketing Areas

List of Subjects in 7 CFR Part 1000

Milk marketing orders, Reporting and recordkeeping requirements.

List of Subjects in 7 CFR Parts 1001, 1005, 1006, 1007, 1030, 1032, 1033, 1051, 1124, 1126, and 1131

Milk marketing orders.

List of Subjects in 7 CFR Part 1170

Dairy products, Reporting and recordkeeping requirements.

Order Relative to Handling

It is therefore ordered, that on and after the effective date hereof, the handling of milk in the Northeast, Southeast, Appalachian, Florida, Upper Midwest, Central, Mideast, California, Southwest, Pacific Northwest, and Arizona marketing areas shall be in conformity to and in compliance with the terms and conditions of the orders, as amended, and as hereby amended, as follows:

PART 1000—GENERAL PROVISIONS OF FEDERAL MILK MARKETING ORDERS

1. The authority citation for part 1000 continues to read as follows:

Authority: 7 U.S.C. 601-674, and 7253.

2. Amend § 1000.43 by:

a. In paragraphs (a) and (b) introductory text, removing the text “and § 1135.11 of this chapter”; and

b. In paragraph (b)(2) removing the words “or § 1135.11 of this chapter”; and

c. Adding paragraph (e).

The addition reads as follows:

§ 1000.43 General classification rules.

* * * * *

(e) Any skim milk used in ultra-pasteurized or aseptically processed and packaged fluid milk products shall be allocated in combination with Class I milk and the quantity of producer milk eligible to be priced shall be limited to available Class I producer milk classified pursuant to § 1000.44(a).

3. Revise and republish § 1000.50 to read as follows:

§ 1000.50 Class prices, component prices, and advanced pricing factors.

Class prices per hundredweight of milk containing 3.5 percent butterfat, component prices, and advanced pricing factors shall be as follows. The prices and pricing factors described in paragraphs (a) through (c), (e), (f), and (q) of this section shall be based on a weighted average of the most recent 2 weekly prices announced by the Agriculture Marketing Service (AMS) before the 24th day of the month. These prices shall be announced on or before the 23rd day of the month and shall apply to milk received during the following month. The prices described in paragraphs (g) through (p) of this section shall be based on a weighted average for the preceding month of weekly prices announced by AMS on or before the 5th day of the month and shall apply to milk received during the preceding month. The price described in paragraph (d) of this section shall be derived from the Class II skim milk price announced on or before the 23rd day of the month preceding the month to which it applies, and the butterfat price announced on or before the 5th day of the month following the month to which it applies.

(a) Class I price. The Class I price per hundredweight, rounded to the nearest cent, shall be 0.965 times the Class I skim milk price plus 3.5 times the Class I butterfat price.

(b) Class I skim milk price. The Class I skim milk price per hundredweight shall be the adjusted Class I differential specified in § 1000.52, plus the higher of the advanced pricing factors computed in paragraph (q)(1) or (2) of this section rounded to the nearest cent.

(c) Class I butterfat price. The Class I butterfat price per pound shall be the adjusted Class I differential specified in § 1000.52 divided by 100, plus the advanced butterfat price computed in paragraph (q)(3) of this section.

(d) Class II price. The Class II price per hundredweight, rounded to the nearest cent, shall be .965 times the Class II skim milk price plus 3.5 times the Class II butterfat price.

(e) Class II skim milk price. The Class II skim milk price per hundredweight shall be the advanced Class IV skim milk price computed in paragraph (q)(2) of this section plus 70 cents.

(f) Class II nonfat solids price. The Class II nonfat solids price per pound, rounded to the nearest one-hundredth cent, shall be the Class II skim milk price divided by 9.

(g) Class II butterfat price. The Class II butterfat price per pound shall be the butterfat price plus $0.007.

(h) Class III price. The Class III price per hundredweight, rounded to the nearest cent, shall be 0.965 times the Class III skim milk price plus 3.5 times the butterfat price.

(i) Class III skim milk price. The Class III skim milk price per hundredweight, rounded to the nearest cent, shall be the protein price per pound times 3.1 plus the other solids price per pound times 5.9.

(j) Class IV price. The Class IV price per hundredweight, rounded to the nearest cent, shall be 0.965 times the Class IV skim milk price plus 3.5 times the butterfat price.

(k) Class IV skim milk price. The Class IV skim milk price per hundredweight, rounded to the nearest cent, shall be the nonfat solids price per pound times 9.

(l) Butterfat price. The butterfat price per pound, rounded to the nearest one-hundredth cent, shall be the U.S. average AMS AA Butter survey price reported by the Department for the month, less 22.72 cents, with the result multiplied by 1.211.

(m) Nonfat solids price. The nonfat solids price per pound, rounded to the nearest one-hundredth cent, shall be the U.S. average AMS nonfat dry milk survey price reported by the Department for the month, less 23.93 cents and multiplying the result by 0.99.

(n) Protein price. The protein price per pound, rounded to the nearest one-hundredth cent, shall be computed as follows:

(1) The U.S. average AMS survey price for 40-lb. block cheese reported by the Department for the month;

(2) Subtract 25.19 cents from the price computed pursuant to paragraph (n)(1) of this section and multiply the result by 1.383;

(3) Add to the amount computed pursuant to paragraph (n)(2) of this section an amount computed as follows:

(i) Subtract 25.19 cents from the price computed pursuant to paragraph (n)(1) of this section and multiply the result by 1.589; and

(ii) Subtract 0.91 times the butterfat price computed pursuant to paragraph (l) of this section from the amount computed pursuant to paragraph (n)(3)(i) of this section; and

(iii) Multiply the amount computed pursuant to paragraph (n)(3)(ii) of this section by 1.17.

(o) Other solids price. The other solids price per pound, rounded to the nearest one-hundredth cent, shall be the U.S. average AMS dry whey survey price reported by the Department for the month minus 26.68 cents, with the result multiplied by 1.03.

(p) Somatic cell adjustment. The somatic cell adjustment per hundredweight of milk shall be determined as follows:

(1) Multiply 0.0005 by the weighted average price computed pursuant to paragraph (n)(1) of this section and round to the 5th decimal place;

(2) Subtract the somatic cell count of the milk (reported in thousands) from 350; and

(3) Multiply the amount computed in paragraph (p)(1) of this section by the amount computed in paragraph (p)(2) of this section and round to the nearest full cent.

(q) Advanced pricing factors. For the purpose of computing the Class I skim milk price, the Class II skim milk price, the Class II nonfat solids price, and the Class I butterfat price for the following month, the following pricing factors shall be computed using the weighted average of the 2 most recent AMS U.S. average weekly survey prices announced before the 24th day of the month:

(1) An advanced Class III skim milk price per hundredweight, rounded to the nearest cent, shall be computed as follows:

(i) Following the procedure set forth in paragraphs (n) and (o) of this section, but using the weighted average of the 2 most recent NASS U.S. average weekly survey prices announced before the 24th day of the month, compute a protein price and an other solids price;

(ii) Multiply the protein price computed in paragraph (q)(1)(i) of this section by 3.1;

(iii) Multiply the other solids price per pound computed in paragraph (q)(1)(i) of this section by 5.9; and

(iv) Add the amounts computed in paragraphs (q)(1)(ii) and (iii) of this section.

(2) An advanced Class IV skim milk price per hundredweight, rounded to the nearest cent, shall be computed as follows:

(i) Following the procedure set forth in paragraph (m) of this section, but using the weighted average of the 2 most recent NASS U.S. average weekly survey prices announced before the 24th day of the month, compute a nonfat solids price; and

(ii) Multiply the nonfat solids price computed in paragraph (q)(2)(i) of this section by 9.

(3) An advanced butterfat price per pound rounded to the nearest one-hundredth cent, shall be calculated by computing a weighted average of the 2 most recent U.S. average AMS AA Butter survey prices announced before the 24th day of the month, subtracting 22.72 cents from this average, and multiplying the result by 1.211.

(r) Class I Extended Shelf Life (ESL) adjustment. The Class I ESL adjustment, whether positive or negative, rounded to the nearest cent, shall be computed as follows:

(1) Compute the simple average of the advanced pricing factors computed in paragraphs (q)(1) and (2) of this section;

(2) Add the following:

(i) Determine the higher of the advanced pricing factors computed in paragraphs (q)(1) and (2) of this section, for each of the preceding 13 to 36 months;

(ii) Calculate the average of the advanced pricing factors computed in paragraphs (q)(1) and (2) of this section, for each of the preceding 13 to 36 months;

(iii) For each of the preceding 13 to 36 months, subtract the amount computed in paragraph (r)(2)(ii) of this section from the amount computed in paragraph (r)(2)(i) of this section; and

(iv) Compute the average of the differences computed in paragraph (r)(2)(iii) of this section.

(3) Subtract the higher of the advanced pricing factors computed in paragraphs (q)(1) and (2) of this section.

3a. Effective December 1, 2025, amend § 1000.50 by revising paragraphs (f), (i), (k), and (q)(1) and (2) to read as follows:

§ 1000.50 Class prices, component prices, and advanced pricing factors.

* * * * *

(f) Class II nonfat solids price. The Class II nonfat solids price per pound, rounded to the nearest one-hundredth cent, shall be the Class II skim milk price divided by 9.3.

* * * * *

(i) Class III skim milk price. The Class III skim milk price per hundredweight, rounded to the nearest cent, shall be the protein price per pound times 3.30 plus the other solids price per pound times 6.00.

* * * * *

(k) Class IV skim milk price. The Class IV skim milk price per hundredweight, rounded to the nearest cent, shall be the nonfat solids price per pound times 9.30.

* * * * *

(q) * * *

(1) An advanced Class III skim milk price per hundredweight, rounded to the nearest cent, shall be computed as follows:

(i) Following the procedure set forth in paragraphs (n) and (o) of this section, but using the weighted average of the 2 most recent AMS U.S. average weekly survey prices announced before the 24th day of the month, compute a protein price and an other solids price;

(ii) Multiply the protein price computed in paragraph (q)(1)(i) of this section by 3.30;

(iii) Multiply the other solids price per pound computed in paragraph (q)(1)(i) of this section by 6.0; and

(iv) Add the amounts computed in paragraphs (q)(1)(ii) and (iii) of this section.

(2) An advanced Class IV skim milk price per hundredweight, rounded to the nearest cent, shall be computed as follows:

(i) Following the procedure set forth in paragraph (m) of this section, but using the weighted average of the 2 most recent AMS U.S. average weekly survey prices announced before the 24th day of the month, compute a nonfat solids price; and

(ii) Multiply the nonfat solids price computed in paragraph (q)(2)(i) of this section by 9.30.

4. Revise and republish § 1000.52 to read as follows:

§ 1000.52 Adjusted Class I differentials.

The Class I differential adjusted for location to be used in § 1000.50(b) and (c) shall be as follows:

County/parish/city | State | FIPS code | Class I differential adjusted for location
AUTAUGA | AL | 01001 | 5.80
BALDWIN | AL | 01003 | 5.80
BARBOUR | AL | 01005 | 5.80
BIBB | AL | 01007 | 5.60
BLOUNT | AL | 01009 | 5.40
BULLOCK | AL | 01011 | 5.80
BUTLER | AL | 01013 | 5.80
CALHOUN | AL | 01015 | 5.60
CHAMBERS | AL | 01017 | 5.60
CHEROKEE | AL | 01019 | 5.40
CHILTON | AL | 01021 | 5.60
CHOCTAW | AL | 01023 | 5.80
CLARKE | AL | 01025 | 5.80
CLAY | AL | 01027 | 5.60
CLEBURNE | AL | 01029 | 5.60
COFFEE | AL | 01031 | 5.80
COLBERT | AL | 01033 | 4.90
CONECUH | AL | 01035 | 5.80
COOSA | AL | 01037 | 5.60
COVINGTON | AL | 01039 | 5.80
CRENSHAW | AL | 01041 | 5.80
CULLMAN | AL | 01043 | 5.40
DALE | AL | 01045 | 5.80
DALLAS | AL | 01047 | 5.80
DE KALB | AL | 01049 | 5.40
ELMORE | AL | 01051 | 5.80
ESCAMBIA | AL | 01053 | 5.80
ETOWAH | AL | 01055 | 5.40
FAYETTE | AL | 01057 | 5.40
FRANKLIN | AL | 01059 | 5.20
GENEVA | AL | 01061 | 5.80
GREENE | AL | 01063 | 5.60
HALE | AL | 01065 | 5.60
HENRY | AL | 01067 | 5.80
HOUSTON | AL | 01069 | 5.80
JACKSON | AL | 01071 | 5.20
JEFFERSON | AL | 01073 | 5.60
LAMAR | AL | 01075 | 5.40
LAUDERDALE | AL | 01077 | 4.90
LAWRENCE | AL | 01079 | 5.20
LEE | AL | 01081 | 5.80
LIMESTONE | AL | 01083 | 5.20
LOWNDES | AL | 01085 | 5.80
MACON | AL | 01087 | 5.80
MADISON | AL | 01089 | 5.20
MARENGO | AL | 01091 | 5.80
MARION | AL | 01093 | 5.20
MARSHALL | AL | 01095 | 5.40
MOBILE | AL | 01097 | 5.80
MONROE | AL | 01099 | 5.80
MONTGOMERY | AL | 01101 | 5.80
MORGAN | AL | 01103 | 5.40
PERRY | AL | 01105 | 5.60
PICKENS | AL | 01107 | 5.40
PIKE | AL | 01109 | 5.80
RANDOLPH | AL | 01111 | 5.60
RUSSELL | AL | 01113 | 5.80
ST. CLAIR | AL | 01115 | 5.60
SHELBY | AL | 01117 | 5.60
SUMTER | AL | 01119 | 5.60
TALLADEGA | AL | 01121 | 5.60
TALLAPOOSA | AL | 01123 | 5.60
TUSCALOOSA | AL | 01125 | 5.60
WALKER | AL | 01127 | 5.40
WASHINGTON | AL | 01129 | 5.80
WILCOX | AL | 01131 | 5.80
WINSTON | AL | 01133 | 5.40
APACHE | AZ | 04001 | 2.30
COCHISE | AZ | 04003 | 2.40
COCONINO | AZ | 04005 | 2.40
GILA | AZ | 04007 | 2.40
GRAHAM | AZ | 04009 | 2.40
GREENLEE | AZ | 04011 | 2.40
LA PAZ | AZ | 04012 | 2.50
MARICOPA | AZ | 04013 | 2.60
MOHAVE | AZ | 04015 | 2.50
NAVAJO | AZ | 04017 | 2.30
PIMA | AZ | 04019 | 2.40
PINAL | AZ | 04021 | 2.60
SANTA CRUZ | AZ | 04023 | 2.40
YAVAPAI | AZ | 04025 | 2.40
YUMA | AZ | 04027 | 2.50
ARKANSAS | AR | 05001 | 4.60
ASHLEY | AR | 05003 | 4.90
BAXTER | AR | 05005 | 3.60
BENTON | AR | 05007 | 3.20
BOONE | AR | 05009 | 3.30
BRADLEY | AR | 05011 | 4.60
CALHOUN | AR | 05013 | 4.60
CARROLL | AR | 05015 | 3.30
CHICOT | AR | 05017 | 4.90
CLARK | AR | 05019 | 4.00
CLAY | AR | 05021 | 4.30
CLEBURNE | AR | 05023 | 4.00
CLEVELAND | AR | 05025 | 4.60
COLUMBIA | AR | 05027 | 4.30
CONWAY | AR | 05029 | 4.00
CRAIGHEAD | AR | 05031 | 4.30
CRAWFORD | AR | 05033 | 3.30
CRITTENDEN | AR | 05035 | 4.60
CROSS | AR | 05037 | 4.30
DALLAS | AR | 05039 | 4.30
DESHA | AR | 05041 | 4.90
DREW | AR | 05043 | 4.60
FAULKNER | AR | 05045 | 4.00
FRANKLIN | AR | 05047 | 3.60
FULTON | AR | 05049 | 4.00
GARLAND | AR | 05051 | 4.00
GRANT | AR | 05053 | 4.30
GREENE | AR | 05055 | 4.30
HEMPSTEAD | AR | 05057 | 4.00
HOT SPRING | AR | 05059 | 4.30
HOWARD | AR | 05061 | 4.00
INDEPENDENCE | AR | 05063 | 4.00
IZARD | AR | 05065 | 4.00
JACKSON | AR | 05067 | 4.30
JEFFERSON | AR | 05069 | 4.60
JOHNSON | AR | 05071 | 3.60
LAFAYETTE | AR | 05073 | 4.30
LAWRENCE | AR | 05075 | 4.30
LEE | AR | 05077 | 4.60
LINCOLN | AR | 05079 | 4.60
LITTLE RIVER | AR | 05081 | 3.60
LOGAN | AR | 05083 | 3.60
LONOKE | AR | 05085 | 4.30
MADISON | AR | 05087 | 3.30
MARION | AR | 05089 | 3.60
MILLER | AR | 05091 | 4.00
MISSISSIPPI | AR | 05093 | 4.30
MONROE | AR | 05095 | 4.60
MONTGOMERY | AR | 05097 | 4.00
NEVADA | AR | 05099 | 4.30
NEWTON | AR | 05101 | 3.60
OUACHITA | AR | 05103 | 4.30
PERRY | AR | 05105 | 4.00
PHILLIPS | AR | 05107 | 4.60
PIKE | AR | 05109 | 4.00
POINSETT | AR | 05111 | 4.30
POLK | AR | 05113 | 3.60
POPE | AR | 05115 | 3.60
PRAIRIE | AR | 05117 | 4.30
PULASKI | AR | 05119 | 4.30
RANDOLPH | AR | 05121 | 4.00
ST. FRANCIS | AR | 05123 | 4.60
SALINE | AR | 05125 | 4.30
SCOTT | AR | 05127 | 3.60
SEARCY | AR | 05129 | 3.60
SEBASTIAN | AR | 05131 | 3.60
SEVIER | AR | 05133 | 3.60
SHARP | AR | 05135 | 4.00
STONE | AR | 05137 | 4.00
UNION | AR | 05139 | 4.60
VAN BUREN | AR | 05141 | 4.00
WASHINGTON | AR | 05143 | 3.30
WHITE | AR | 05145 | 4.30
WOODRUFF | AR | 05147 | 4.30
YELL | AR | 05149 | 3.60
ALAMEDA | CA | 06001 | 2.40
ALPINE | CA | 06003 | 1.80
AMADOR | CA | 06005 | 1.80
BUTTE | CA | 06007 | 2.00
CALAVERAS | CA | 06009 | 1.80
COLUSA | CA | 06011 | 2.20
CONTRA COSTA | CA | 06013 | 2.40
DEL NORTE | CA | 06015 | 2.20
EL DORADO | CA | 06017 | 1.80
FRESNO | CA | 06019 | 2.20
GLENN | CA | 06021 | 2.20
HUMBOLDT | CA | 06023 | 2.20
IMPERIAL | CA | 06025 | 2.50
INYO | CA | 06027 | 2.20
KERN | CA | 06029 | 2.50
KINGS | CA | 06031 | 2.20
LAKE | CA | 06033 | 2.20
LASSEN | CA | 06035 | 2.00
LOS ANGELES | CA | 06037 | 2.80
MADERA | CA | 06039 | 2.20
MARIN | CA | 06041 | 2.40
MARIPOSA | CA | 06043 | 1.80
MENDOCINO | CA | 06045 | 2.20
MERCED | CA | 06047 | 2.20
MODOC | CA | 06049 | 2.00
MONO | CA | 06051 | 2.00
MONTEREY | CA | 06053 | 2.50
NAPA | CA | 06055 | 2.40
NEVADA | CA | 06057 | 2.00
ORANGE | CA | 06059 | 2.80
PLACER | CA | 06061 | 2.00
PLUMAS | CA | 06063 | 2.00
RIVERSIDE | CA | 06065 | 2.80
SACRAMENTO | CA | 06067 | 2.20
SAN BENITO | CA | 06069 | 2.50
SAN BERNARDINO | CA | 06071 | 2.60
SAN DIEGO | CA | 06073 | 2.80
SAN FRANCISCO | CA | 06075 | 2.50
SAN JOAQUIN | CA | 06077 | 2.20
SAN LUIS OBISPO | CA | 06079 | 2.50
SAN MATEO | CA | 06081 | 2.50
SANTA BARBARA | CA | 06083 | 2.50
SANTA CLARA | CA | 06085 | 2.50
SANTA CRUZ | CA | 06087 | 2.50
SHASTA | CA | 06089 | 2.00
SIERRA | CA | 06091 | 2.00
SISKIYOU | CA | 06093 | 2.00
SOLANO | CA | 06095 | 2.40
SONOMA | CA | 06097 | 2.40
STANISLAUS | CA | 06099 | 2.20
SUTTER | CA | 06101 | 2.20
TEHAMA | CA | 06103 | 2.20
TRINITY | CA | 06105 | 2.00
TULARE | CA | 06107 | 2.20
TUOLUMNE | CA | 06109 | 1.80
VENTURA | CA | 06111 | 2.60
YOLO | CA | 06113 | 2.20
YUBA | CA | 06115 | 2.00
ADAMS | CO | 08001 | 2.70
ALAMOSA | CO | 08003 | 2.50
ARAPAHOE | CO | 08005 | 2.70
ARCHULETA | CO | 08007 | 2.30
BACA | CO | 08009 | 2.50
BENT | CO | 08011 | 2.50
BOULDER | CO | 08013 | 2.50
BROOMFIELD | CO | 08014 | 2.50
CHAFFEE | CO | 08015 | 2.50
CHEYENNE | CO | 08017 | 2.50
CLEAR CREEK | CO | 08019 | 2.50
CONEJOS | CO | 08021 | 2.50
COSTILLA | CO | 08023 | 2.50
CROWLEY | CO | 08025 | 2.70
CUSTER | CO | 08027 | 2.70
DELTA | CO | 08029 | 2.30
DENVER | CO | 08031 | 2.70
DOLORES | CO | 08033 | 2.30
DOUGLAS | CO | 08035 | 2.70
EAGLE | CO | 08037 | 2.50
ELBERT | CO | 08039 | 2.70
EL PASO | CO | 08041 | 2.70
FREMONT | CO | 08043 | 2.70
GARFIELD | CO | 08045 | 2.30
GILPIN | CO | 08047 | 2.50
GRAND | CO | 08049 | 2.50
GUNNISON | CO | 08051 | 2.50
HINSDALE | CO | 08053 | 2.30
HUERFANO | CO | 08055 | 2.70
JACKSON | CO | 08057 | 2.50
JEFFERSON | CO | 08059 | 2.70
KIOWA | CO | 08061 | 2.50
KIT CARSON | CO | 08063 | 2.50
LAKE | CO | 08065 | 2.50
LA PLATA | CO | 08067 | 2.30
LARIMER | CO | 08069 | 2.50
LAS ANIMAS | CO | 08071 | 2.50
LINCOLN | CO | 08073 | 2.70
LOGAN | CO | 08075 | 2.50
MESA | CO | 08077 | 2.30
MINERAL | CO | 08079 | 2.50
MOFFAT | CO | 08081 | 2.30
MONTEZUMA | CO | 08083 | 2.30
MONTROSE | CO | 08085 | 2.30
MORGAN | CO | 08087 | 2.50
OTERO | CO | 08089 | 2.70
OURAY | CO | 08091 | 2.30
PARK | CO | 08093 | 2.70
PHILLIPS | CO | 08095 | 2.50
PITKIN | CO | 08097 | 2.50
PROWERS | CO | 08099 | 2.50
PUEBLO | CO | 08101 | 2.70
RIO BLANCO | CO | 08103 | 2.30
RIO GRANDE | CO | 08105 | 2.50
ROUTT | CO | 08107 | 2.50
SAGUACHE | CO | 08109 | 2.50
SAN JUAN | CO | 08111 | 2.30
SAN MIGUEL | CO | 08113 | 2.30
SEDGWICK | CO | 08115 | 2.50
SUMMIT | CO | 08117 | 2.50
TELLER | CO | 08119 | 2.70
WASHINGTON | CO | 08121 | 2.50
WELD | CO | 08123 | 2.50
YUMA | CO | 08125 | 2.50
FAIRFIELD | CT | 09001 | 5.00
HARTFORD | CT | 09003 | 4.80
LITCHFIELD | CT | 09005 | 4.80
MIDDLESEX | CT | 09007 | 4.80
NEW HAVEN | CT | 09009 | 4.80
NEW LONDON | CT | 09011 | 4.80
TOLLAND | CT | 09013 | 4.80
WINDHAM | CT | 09015 | 4.80
KENT | DE | 10001 | 4.60
NEW CASTLE | DE | 10003 | 4.40
SUSSEX | DE | 10005 | 4.80
DISTRICT OF COLUMBIA | DC | 11001 | 4.70
ALACHUA | FL | 12001 | 6.40
BAKER | FL | 12003 | 6.40
BAY | FL | 12005 | 6.00
BRADFORD | FL | 12007 | 6.40
BREVARD | FL | 12009 | 6.80
BROWARD | FL | 12011 | 7.40
CALHOUN | FL | 12013 | 6.00
CHARLOTTE | FL | 12015 | 7.00
CITRUS | FL | 12017 | 6.80
CLAY | FL | 12019 | 6.40
COLLIER | FL | 12021 | 7.40
COLUMBIA | FL | 12023 | 6.40
DE SOTO | FL | 12027 | 7.00
DIXIE | FL | 12029 | 6.40
DUVAL | FL | 12031 | 6.40
ESCAMBIA | FL | 12033 | 5.80
FLAGLER | FL | 12035 | 6.80
FRANKLIN | FL | 12037 | 6.00
GADSDEN | FL | 12039 | 6.00
GILCHRIST | FL | 12041 | 6.40
GLADES | FL | 12043 | 7.00
GULF | FL | 12045 | 6.00
HAMILTON | FL | 12047 | 6.40
HARDEE | FL | 12049 | 7.00
HENDRY | FL | 12051 | 7.40
HERNANDO | FL | 12053 | 6.80
HIGHLANDS | FL | 12055 | 7.00
HILLSBOROUGH | FL | 12057 | 6.80
HOLMES | FL | 12059 | 6.00
INDIAN RIVER | FL | 12061 | 7.00
JACKSON | FL | 12063 | 6.00
JEFFERSON | FL | 12065 | 6.00
LAFAYETTE | FL | 12067 | 6.40
LAKE | FL | 12069 | 6.80
LEE | FL | 12071 | 7.00
LEON | FL | 12073 | 6.00
LEVY | FL | 12075 | 6.40
LIBERTY | FL | 12077 | 6.00
MADISON | FL | 12079 | 6.00
MANATEE | FL | 12081 | 7.00
MARION | FL | 12083 | 6.80
MARTIN | FL | 12085 | 7.00
MIAMI-DADE | FL | 12086 | 7.40
MONROE | FL | 12087 | 7.40
NASSAU | FL | 12089 | 6.40
OKALOOSA | FL | 12091 | 5.80
OKEECHOBEE | FL | 12093 | 7.00
ORANGE | FL | 12095 | 6.80
OSCEOLA | FL | 12097 | 6.80
PALM BEACH | FL | 12099 | 7.40
PASCO | FL | 12101 | 6.80
PINELLAS | FL | 12103 | 6.80
POLK | FL | 12105 | 6.80
PUTNAM | FL | 12107 | 6.40
ST. JOHNS | FL | 12109 | 6.40
ST. LUCIE | FL | 12111 | 7.00
SANTA ROSA | FL | 12113 | 5.80
SARASOTA | FL | 12115 | 7.00
SEMINOLE | FL | 12117 | 6.80
SUMTER | FL | 12119 | 6.80
SUWANNEE | FL | 12121 | 6.40
TAYLOR | FL | 12123 | 6.40
UNION | FL | 12125 | 6.40
VOLUSIA | FL | 12127 | 6.80
WAKULLA | FL | 12129 | 6.00
WALTON | FL | 12131 | 6.00
WASHINGTON | FL | 12133 | 6.00
APPLING | GA | 13001 | 6.00
ATKINSON | GA | 13003 | 6.00
BACON | GA | 13005 | 6.00
BAKER | GA | 13007 | 5.80
BALDWIN | GA | 13009 | 5.80
BANKS | GA | 13011 | 5.60
BARROW | GA | 13013 | 5.80
BARTOW | GA | 13015 | 5.60
BEN HILL | GA | 13017 | 6.00
BERRIEN | GA | 13019 | 6.00
BIBB | GA | 13021 | 5.80
BLECKLEY | GA | 13023 | 5.80
BRANTLEY | GA | 13025 | 6.00
BROOKS | GA | 13027 | 6.00
BRYAN | GA | 13029 | 6.00
BULLOCH | GA | 13031 | 6.00
BURKE | GA | 13033 | 6.00
BUTTS | GA | 13035 | 5.80
CALHOUN | GA | 13037 | 5.80
CAMDEN | GA | 13039 | 6.00
CANDLER | GA | 13043 | 6.00
CARROLL | GA | 13045 | 5.60
CATOOSA | GA | 13047 | 5.40
CHARLTON | GA | 13049 | 6.00
CHATHAM | GA | 13051 | 6.00
CHATTAHOOCHEE | GA | 13053 | 5.80
CHATTOOGA | GA | 13055 | 5.40
CHEROKEE | GA | 13057 | 5.60
CLARKE | GA | 13059 | 5.80
CLAY | GA | 13061 | 5.80
CLAYTON | GA | 13063 | 5.80
CLINCH | GA | 13065 | 6.00
COBB | GA | 13067 | 5.60
COFFEE | GA | 13069 | 6.00
COLQUITT | GA | 13071 | 6.00
COLUMBIA | GA | 13073 | 5.80
COOK | GA | 13075 | 6.00
COWETA | GA | 13077 | 5.80
CRAWFORD | GA | 13079 | 5.80
CRISP | GA | 13081 | 5.80
DADE | GA | 13083 | 5.40
DAWSON | GA | 13085 | 5.60
DECATUR | GA | 13087 | 6.00
DE KALB | GA | 13089 | 5.80
DODGE | GA | 13091 | 5.80
DOOLY | GA | 13093 | 5.80
DOUGHERTY | GA | 13095 | 5.80
DOUGLAS | GA | 13097 | 5.60
EARLY | GA | 13099 | 5.80
ECHOLS | GA | 13101 | 6.00
EFFINGHAM | GA | 13103 | 6.00
ELBERT | GA | 13105 | 5.80
EMANUEL | GA | 13107 | 6.00
EVANS | GA | 13109 | 6.00
FANNIN | GA | 13111 | 5.60
FAYETTE | GA | 13113 | 5.80
FLOYD | GA | 13115 | 5.60
FORSYTH | GA | 13117 | 5.60
FRANKLIN | GA | 13119 | 5.60
FULTON | GA | 13121 | 5.80
GILMER | GA | 13123 | 5.60
GLASCOCK | GA | 13125 | 5.80
GLYNN | GA | 13127 | 6.00
GORDON | GA | 13129 | 5.60
GRADY | GA | 13131 | 6.00
GREENE | GA | 13133 | 5.80
GWINNETT | GA | 13135 | 5.80
HABERSHAM | GA | 13137 | 5.60
HALL | GA | 13139 | 5.60
HANCOCK | GA | 13141 | 5.80
HARALSON | GA | 13143 | 5.60
HARRIS | GA | 13145 | 5.80
HART | GA | 13147 | 5.60
HEARD | GA | 13149 | 5.60
HENRY | GA | 13151 | 5.80
HOUSTON | GA | 13153 | 5.80
IRWIN | GA | 13155 | 6.00
JACKSON | GA | 13157 | 5.80
JASPER | GA | 13159 | 5.80
JEFF DAVIS | GA | 13161 | 6.00
JEFFERSON | GA | 13163 | 5.80
JENKINS | GA | 13165 | 6.00
JOHNSON | GA | 13167 | 5.80
JONES | GA | 13169 | 5.80
LAMAR | GA | 13171 | 5.80
LANIER | GA | 13173 | 6.00
LAURENS | GA | 13175 | 5.80
LEE | GA | 13177 | 5.80
LIBERTY | GA | 13179 | 6.00
LINCOLN | GA | 13181 | 5.80
LONG | GA | 13183 | 6.00
LOWNDES | GA | 13185 | 6.00
LUMPKIN | GA | 13187 | 5.60
MCDUFFIE | GA | 13189 | 5.80
MCINTOSH | GA | 13191 | 6.00
MACON | GA | 13193 | 5.80
MADISON | GA | 13195 | 5.80
MARION | GA | 13197 | 5.80
MERIWETHER | GA | 13199 | 5.80
MILLER | GA | 13201 | 5.80
MITCHELL | GA | 13205 | 5.80
MONROE | GA | 13207 | 5.80
MONTGOMERY | GA | 13209 | 6.00
MORGAN | GA | 13211 | 5.80
MURRAY | GA | 13213 | 5.40
MUSCOGEE | GA | 13215 | 5.80
NEWTON | GA | 13217 | 5.80
OCONEE | GA | 13219 | 5.80
OGLETHORPE | GA | 13221 | 5.80
PAULDING | GA | 13223 | 5.60
PEACH | GA | 13225 | 5.80
PICKENS | GA | 13227 | 5.60
PIERCE | GA | 13229 | 6.00
PIKE | GA | 13231 | 5.80
POLK | GA | 13233 | 5.60
PULASKI | GA | 13235 | 5.80
PUTNAM | GA | 13237 | 5.80
QUITMAN | GA | 13239 | 5.80
RABUN | GA | 13241 | 5.60
RANDOLPH | GA | 13243 | 5.80
RICHMOND | GA | 13245 | 6.00
ROCKDALE | GA | 13247 | 5.80
SCHLEY | GA | 13249 | 5.80
SCREVEN | GA | 13251 | 6.00
SEMINOLE | GA | 13253 | 6.00
SPALDING | GA | 13255 | 5.80
STEPHENS | GA | 13257 | 5.60
STEWART | GA | 13259 | 5.80
SUMTER | GA | 13261 | 5.80
TALBOT | GA | 13263 | 5.80
TALIAFERRO | GA | 13265 | 5.80
TATTNALL | GA | 13267 | 6.00
TAYLOR | GA | 13269 | 5.80
TELFAIR | GA | 13271 | 6.00
TERRELL | GA | 13273 | 5.80
THOMAS | GA | 13275 | 6.00
TIFT | GA | 13277 | 5.80
TOOMBS | GA | 13279 | 6.00
TOWNS | GA | 13281 | 5.60
TREUTLEN | GA | 13283 | 6.00
TROUP | GA | 13285 | 5.60
TURNER | GA | 13287 | 5.80
TWIGGS | GA | 13289 | 5.80
UNION | GA | 13291 | 5.60
UPSON | GA | 13293 | 5.80
WALKER | GA | 13295 | 5.40
WALTON | GA | 13297 | 5.80
WARE | GA | 13299 | 6.00
WARREN | GA | 13301 | 5.80
WASHINGTON | GA | 13303 | 5.80
WAYNE | GA | 13305 | 6.00
WEBSTER | GA | 13307 | 5.80
WHEELER | GA | 13309 | 6.00
WHITE | GA | 13311 | 5.60
WHITFIELD | GA | 13313 | 5.40
WILCOX | GA | 13315 | 5.80
WILKES | GA | 13317 | 5.80
WILKINSON | GA | 13319 | 5.80
WORTH | GA | 13321 | 5.80
ADA | ID | 16001 | 1.70
ADAMS | ID | 16003 | 2.00
BANNOCK | ID | 16005 | 2.00
BEAR LAKE | ID | 16007 | 2.20
BENEWAH | ID | 16009 | 2.40
BINGHAM | ID | 16011 | 2.00
BLAINE | ID | 16013 | 1.80
BOISE | ID | 16015 | 1.70
BONNER | ID | 16017 | 2.40
BONNEVILLE | ID | 16019 | 2.00
BOUNDARY | ID | 16021 | 2.40
BUTTE | ID | 16023 | 2.00
CAMAS | ID | 16025 | 1.80
CANYON | ID | 16027 | 1.70
CARIBOU | ID | 16029 | 2.00
CASSIA | ID | 16031 | 1.70
CLARK | ID | 16033 | 2.00
CLEARWATER | ID | 16035 | 2.00
CUSTER | ID | 16037 | 1.80
ELMORE | ID | 16039 | 1.70
FRANKLIN | ID | 16041 | 2.00
FREMONT | ID | 16043 | 2.00
GEM | ID | 16045 | 1.70
GOODING | ID | 16047 | 1.70
IDAHO | ID | 16049 | 2.00
JEFFERSON | ID | 16051 | 2.00
JEROME | ID | 16053 | 1.70
KOOTENAI | ID | 16055 | 2.40
LATAH | ID | 16057 | 2.20
LEMHI | ID | 16059 | 1.80
LEWIS | ID | 16061 | 2.00
LINCOLN | ID | 16063 | 1.70
MADISON | ID | 16065 | 2.00
MINIDOKA | ID | 16067 | 1.70
NEZ PERCE | ID | 16069 | 2.00
ONEIDA | ID | 16071 | 2.00
OWYHEE | ID | 16073 | 1.80
PAYETTE | ID | 16075 | 1.70
POWER | ID | 16077 | 2.00
SHOSHONE | ID | 16079 | 2.20
TETON | ID | 16081 | 2.00
TWIN FALLS | ID | 16083 | 1.70
VALLEY | ID | 16085 | 1.80
WASHINGTON | ID | 16087 | 1.70
ADAMS | IL | 17001 | 3.20
ALEXANDER | IL | 17003 | 4.00
BOND | IL | 17005 | 3.60
BOONE | IL | 17007 | 3.10
BROWN | IL | 17009 | 3.40
BUREAU | IL | 17011 | 3.40
CALHOUN | IL | 17013 | 3.60
CARROLL | IL | 17015 | 3.20
CASS | IL | 17017 | 3.40
CHAMPAIGN | IL | 17019 | 3.60
CHRISTIAN | IL | 17021 | 3.60
CLARK | IL | 17023 | 3.60
CLAY | IL | 17025 | 3.60
CLINTON | IL | 17027 | 3.60
COLES | IL | 17029 | 3.60
COOK | IL | 17031 | 3.20
CRAWFORD | IL | 17033 | 3.60
CUMBERLAND | IL | 17035 | 3.60
DE KALB | IL | 17037 | 3.20
DE WITT | IL | 17039 | 3.40
DOUGLAS | IL | 17041 | 3.60
DU PAGE | IL | 17043 | 3.20
EDGAR | IL | 17045 | 3.60
EDWARDS | IL | 17047 | 3.60
EFFINGHAM | IL | 17049 | 3.60
FAYETTE | IL | 17051 | 3.60
FORD | IL | 17053 | 3.60
FRANKLIN | IL | 17055 | 3.60
FULTON | IL | 17057 | 3.40
GALLATIN | IL | 17059 | 4.00
GREENE | IL | 17061 | 3.60
GRUNDY | IL | 17063 | 3.40
HAMILTON | IL | 17065 | 3.60
HANCOCK | IL | 17067 | 3.20
HARDIN | IL | 17069 | 4.00
HENDERSON | IL | 17071 | 3.20
HENRY | IL | 17073 | 3.20
IROQUOIS | IL | 17075 | 3.60
JACKSON | IL | 17077 | 3.60
JASPER | IL | 17079 | 3.60
JEFFERSON | IL | 17081 | 3.60
JERSEY | IL | 17083 | 3.60
JO DAVIESS | IL | 17085 | 3.10
JOHNSON | IL | 17087 | 4.00
KANE | IL | 17089 | 3.20
KANKAKEE | IL | 17091 | 3.40
KENDALL | IL | 17093 | 3.20
KNOX | IL | 17095 | 3.40
LAKE | IL | 17097 | 3.10
LA SALLE | IL | 17099 | 3.40
LAWRENCE | IL | 17101 | 3.60
LEE | IL | 17103 | 3.20
LIVINGSTON | IL | 17105 | 3.40
LOGAN | IL | 17107 | 3.40
MCDONOUGH | IL | 17109 | 3.40
MCHENRY | IL | 17111 | 3.10
MCLEAN | IL | 17113 | 3.40
MACON | IL | 17115 | 3.40
MACOUPIN | IL | 17117 | 3.60
MADISON | IL | 17119 | 3.60
MARION | IL | 17121 | 3.60
MARSHALL | IL | 17123 | 3.40
MASON | IL | 17125 | 3.40
MASSAC | IL | 17127 | 4.00
MENARD | IL | 17129 | 3.40
MERCER | IL | 17131 | 3.20
MONROE | IL | 17133 | 3.60
MONTGOMERY | IL | 17135 | 3.60
MORGAN | IL | 17137 | 3.40
MOULTRIE | IL | 17139 | 3.60
OGLE | IL | 17141 | 3.20
PEORIA | IL | 17143 | 3.40
PERRY | IL | 17145 | 3.60
PIATT | IL | 17147 | 3.40
PIKE | IL | 17149 | 3.40
POPE | IL | 17151 | 4.00
PULASKI | IL | 17153 | 4.00
PUTNAM | IL | 17155 | 3.40
RANDOLPH | IL | 17157 | 3.60
RICHLAND | IL | 17159 | 3.60
ROCK ISLAND | IL | 17161 | 3.20
ST. CLAIR | IL | 17163 | 3.60
SALINE | IL | 17165 | 4.00
SANGAMON | IL | 17167 | 3.40
SCHUYLER | IL | 17169 | 3.40
SCOTT | IL | 17171 | 3.40
SHELBY | IL | 17173 | 3.60
STARK | IL | 17175 | 3.40
STEPHENSON | IL | 17177 | 3.10
TAZEWELL | IL | 17179 | 3.40
UNION | IL | 17181 | 4.00
VERMILION | IL | 17183 | 3.60
WABASH | IL | 17185 | 3.60
WARREN | IL | 17187 | 3.20
WASHINGTON | IL | 17189 | 3.60
WAYNE | IL | 17191 | 3.60
WHITE | IL | 17193 | 3.60
WHITESIDE | IL | 17195 | 3.20
WILL | IL | 17197 | 3.20
WILLIAMSON | IL | 17199 | 4.00
WINNEBAGO | IL | 17201 | 3.10
WOODFORD | IL | 17203 | 3.40
ADAMS | IN | 18001 | 3.30
ALLEN | IN | 18003 | 3.30
BARTHOLOMEW | IN | 18005 | 3.70
BENTON | IN | 18007 | 3.60
BLACKFORD | IN | 18009 | 3.30
BOONE | IN | 18011 | 3.60
BROWN | IN | 18013 | 3.70
CARROLL | IN | 18015 | 3.60
CASS | IN | 18017 | 3.30
CLARK | IN | 18019 | 4.00
CLAY | IN | 18021 | 3.60
CLINTON | IN | 18023 | 3.60
CRAWFORD | IN | 18025 | 4.00
DAVIESS | IN | 18027 | 3.70
DEARBORN | IN | 18029 | 3.70
DECATUR | IN | 18031 | 3.70
DEKALB | IN | 18033 | 3.30
DELAWARE | IN | 18035 | 3.60
DUBOIS | IN | 18037 | 3.70
ELKHART | IN | 18039 | 3.30
FAYETTE | IN | 18041 | 3.60
FLOYD | IN | 18043 | 4.00
FOUNTAIN | IN | 18045 | 3.60
FRANKLIN | IN | 18047 | 3.70
FULTON | IN | 18049 | 3.30
GIBSON | IN | 18051 | 3.70
GRANT | IN | 18053 | 3.30
GREENE | IN | 18055 | 3.70
HAMILTON | IN | 18057 | 3.60
HANCOCK | IN | 18059 | 3.60
HARRISON | IN | 18061 | 4.00
HENDRICKS | IN | 18063 | 3.60
HENRY | IN | 18065 | 3.60
HOWARD | IN | 18067 | 3.60
HUNTINGTON | IN | 18069 | 3.30
JACKSON | IN | 18071 | 3.70
JASPER | IN | 18073 | 3.60
JAY | IN | 18075 | 3.30
JEFFERSON | IN | 18077 | 4.00
JENNINGS | IN | 18079 | 3.70
JOHNSON | IN | 18081 | 3.60
KNOX | IN | 18083 | 3.70
KOSCIUSKO | IN | 18085 | 3.30
LAGRANGE | IN | 18087 | 3.30
LAKE | IN | 18089 | 3.30
LA PORTE | IN | 18091 | 3.30
LAWRENCE | IN | 18093 | 3.70
MADISON | IN | 18095 | 3.60
MARION | IN | 18097 | 3.60
MARSHALL | IN | 18099 | 3.30
MARTIN | IN | 18101 | 3.70
MIAMI | IN | 18103 | 3.30
MONROE | IN | 18105 | 3.70
MONTGOMERY | IN | 18107 | 3.60
MORGAN | IN | 18109 | 3.60
NEWTON | IN | 18111 | 3.60
NOBLE | IN | 18113 | 3.30
OHIO | IN | 18115 | 3.70
ORANGE | IN | 18117 | 3.70
OWEN | IN | 18119 | 3.60
PARKE | IN | 18121 | 3.60
PERRY | IN | 18123 | 4.00
PIKE | IN | 18125 | 3.70
PORTER | IN | 18127 | 3.30
POSEY | IN | 18129 | 3.70
PULASKI | IN | 18131 | 3.30
PUTNAM | IN | 18133 | 3.60
RANDOLPH | IN | 18135 | 3.60
RIPLEY | IN | 18137 | 3.70
RUSH | IN | 18139 | 3.60
ST. JOSEPH | IN | 18141 | 3.30
SCOTT | IN | 18143 | 4.00
SHELBY | IN | 18145 | 3.60
SPENCER | IN | 18147 | 4.00
STARKE | IN | 18149 | 3.30
STEUBEN | IN | 18151 | 3.30
SULLIVAN | IN | 18153 | 3.70
SWITZERLAND | IN | 18155 | 4.00
TIPPECANOE | IN | 18157 | 3.60
TIPTON | IN | 18159 | 3.60
UNION | IN | 18161 | 3.60
VANDERBURGH | IN | 18163 | 3.70
VERMILLION | IN | 18165 | 3.60
VIGO | IN | 18167 | 3.60
WABASH | IN | 18169 | 3.30
WARREN | IN | 18171 | 3.60
WARRICK | IN | 18173 | 3.70
WASHINGTON | IN | 18175 | 4.00
WAYNE | IN | 18177 | 3.60
WELLS | IN | 18179 | 3.30
WHITE | IN | 18181 | 3.60
WHITLEY | IN | 18183 | 3.30
ADAIR | IA | 19001 | 2.70
ADAMS | IA | 19003 | 2.90
ALLAMAKEE | IA | 19005 | 2.90
APPANOOSE | IA | 19007 | 2.90
AUDUBON | IA | 19009 | 2.70
BENTON | IA | 19011 | 2.90
BLACK HAWK | IA | 19013 | 2.90
BOONE | IA | 19015 | 2.70
BREMER | IA | 19017 | 2.90
BUCHANAN | IA | 19019 | 2.90
BUENA VISTA | IA | 19021 | 2.60
BUTLER | IA | 19023 | 2.90
CALHOUN | IA | 19025 | 2.70
CARROLL | IA | 19027 | 2.70
CASS | IA | 19029 | 2.70
CEDAR | IA | 19031 | 3.10
CERRO GORDO | IA | 19033 | 2.90
CHEROKEE | IA | 19035 | 2.60
CHICKASAW | IA | 19037 | 2.90
CLARKE | IA | 19039 | 2.90
CLAY | IA | 19041 | 2.60
CLAYTON | IA | 19043 | 2.90
CLINTON | IA | 19045 | 3.10
CRAWFORD | IA | 19047 | 2.60
DALLAS | IA | 19049 | 2.70
DAVIS | IA | 19051 | 2.90
DECATUR | IA | 19053 | 2.90
DELAWARE | IA | 19055 | 2.90
DES MOINES | IA | 19057 | 3.10
DICKINSON | IA | 19059 | 2.70
DUBUQUE | IA | 19061 | 3.10
EMMET | IA | 19063 | 2.70
FAYETTE | IA | 19065 | 2.90
FLOYD | IA | 19067 | 2.90
FRANKLIN | IA | 19069 | 2.70
FREMONT | IA | 19071 | 2.70
GREENE | IA | 19073 | 2.70
GRUNDY | IA | 19075 | 2.90
GUTHRIE | IA | 19077 | 2.70
HAMILTON | IA | 19079 | 2.70
HANCOCK | IA | 19081 | 2.70
HARDIN | IA | 19083 | 2.70
HARRISON | IA | 19085 | 2.60
HENRY | IA | 19087 | 2.90
HOWARD | IA | 19089 | 2.80
HUMBOLDT | IA | 19091 | 2.70
IDA | IA | 19093 | 2.60
IOWA | IA | 19095 | 2.90
JACKSON | IA | 19097 | 3.10
JASPER | IA | 19099 | 2.90
JEFFERSON | IA | 19101 | 2.90
JOHNSON | IA | 19103 | 2.90
JONES | IA | 19105 | 3.10
KEOKUK | IA | 19107 | 2.90
KOSSUTH | IA | 19109 | 2.70
LEE | IA | 19111 | 3.10
LINN | IA | 19113 | 2.90
LOUISA | IA | 19115 | 3.10
LUCAS | IA | 19117 | 2.90
LYON | IA | 19119 | 2.60
MADISON | IA | 19121 | 2.70
MAHASKA | IA | 19123 | 2.90
MARION | IA | 19125 | 2.90
MARSHALL | IA | 19127 | 2.90
MILLS | IA | 19129 | 2.70
MITCHELL | IA | 19131 | 2.80
MONONA | IA | 19133 | 2.60
MONROE | IA | 19135 | 2.90
MONTGOMERY | IA | 19137 | 2.70
MUSCATINE | IA | 19139 | 3.10
O'BRIEN | IA | 19141 | 2.60
OSCEOLA | IA | 19143 | 2.70
PAGE | IA | 19145 | 2.90
PALO ALTO | IA | 19147 | 2.70
PLYMOUTH | IA | 19149 | 2.60
POCAHONTAS | IA | 19151 | 2.70
POLK | IA | 19153 | 2.70
POTTAWATTAMIE | IA | 19155 | 2.70
POWESHIEK | IA | 19157 | 2.90
RINGGOLD | IA | 19159 | 2.90
SAC | IA | 19161 | 2.60
SCOTT | IA | 19163 | 3.10
SHELBY | IA | 19165 | 2.60
SIOUX | IA | 19167 | 2.60
STORY | IA | 19169 | 2.70
TAMA | IA | 19171 | 2.90
TAYLOR | IA | 19173 | 2.90
UNION | IA | 19175 | 2.90
VAN BUREN | IA | 19177 | 2.90
WAPELLO | IA | 19179 | 2.90
WARREN | IA | 19181 | 2.70
WASHINGTON | IA | 19183 | 2.90
WAYNE | IA | 19185 | 2.90
WEBSTER | IA | 19187 | 2.70
WINNEBAGO | IA | 19189 | 2.70
WINNESHIEK | IA | 19191 | 2.80
WOODBURY | IA | 19193 | 2.60
WORTH | IA | 19195 | 2.80
WRIGHT | IA | 19197 | 2.70
ALLEN | KS | 20001 | 2.90
ANDERSON | KS | 20003 | 2.90
ATCHISON | KS | 20005 | 2.90
BARBER | KS | 20007 | 2.60
BARTON | KS | 20009 | 2.60
BOURBON | KS | 20011 | 3.20
BROWN | KS | 20013 | 2.90
BUTLER | KS | 20015 | 2.90
CHASE | KS | 20017 | 2.70
CHAUTAUQUA | KS | 20019 | 2.90
CHEROKEE | KS | 20021 | 3.20
CHEYENNE | KS | 20023 | 2.50
CLARK | KS | 20025 | 2.60
CLAY | KS | 20027 | 2.70
CLOUD | KS | 20029 | 2.70
COFFEY | KS | 20031 | 2.90
COMANCHE | KS | 20033 | 2.60
COWLEY | KS | 20035 | 2.90
CRAWFORD | KS | 20037 | 3.20
DECATUR | KS | 20039 | 2.50
DICKINSON | KS | 20041 | 2.70
DONIPHAN | KS | 20043 | 2.90
DOUGLAS | KS | 20045 | 2.90
EDWARDS | KS | 20047 | 2.60
ELK | KS | 20049 | 2.90
ELLIS | KS | 20051 | 2.50
ELLSWORTH | KS | 20053 | 2.60
FINNEY | KS | 20055 | 2.50
FORD | KS | 20057 | 2.50
FRANKLIN | KS | 20059 | 2.90
GEARY | KS | 20061 | 2.70
GOVE | KS | 20063 | 2.50
GRAHAM | KS | 20065 | 2.50
GRANT | KS | 20067 | 2.50
GRAY | KS | 20069 | 2.50
GREELEY | KS | 20071 | 2.50
GREENWOOD | KS | 20073 | 2.90
HAMILTON | KS | 20075 | 2.50
HARPER | KS | 20077 | 2.90
HARVEY | KS | 20079 | 2.90
HASKELL | KS | 20081 | 2.50
HODGEMAN | KS | 20083 | 2.50
JACKSON | KS | 20085 | 2.90
JEFFERSON | KS | 20087 | 2.90
JEWELL | KS | 20089 | 2.60
JOHNSON | KS | 20091 | 3.20
KEARNY | KS | 20093 | 2.50
KINGMAN | KS | 20095 | 2.90
KIOWA | KS | 20097 | 2.60
LABETTE | KS | 20099 | 3.20
LANE | KS | 20101 | 2.50
LEAVENWORTH | KS | 20103 | 2.90
LINCOLN | KS | 20105 | 2.60
LINN | KS | 20107 | 3.20
LOGAN | KS | 20109 | 2.50
LYON | KS | 20111 | 2.90
MCPHERSON | KS | 20113 | 2.70
MARION | KS | 20115 | 2.70
MARSHALL | KS | 20117 | 2.70
MEADE | KS | 20119 | 2.50
MIAMI | KS | 20121 | 3.20
MITCHELL | KS | 20123 | 2.60
MONTGOMERY | KS | 20125 | 3.20
MORRIS | KS | 20127 | 2.70
MORTON | KS | 20129 | 2.50
NEMAHA | KS | 20131 | 2.70
NEOSHO | KS | 20133 | 2.90
NESS | KS | 20135 | 2.50
NORTON | KS | 20137 | 2.50
OSAGE | KS | 20139 | 2.90
OSBORNE | KS | 20141 | 2.50
OTTAWA | KS | 20143 | 2.70
PAWNEE | KS | 20145 | 2.50
PHILLIPS | KS | 20147 | 2.50
POTTAWATOMIE | KS | 20149 | 2.70
PRATT | KS | 20151 | 2.60
RAWLINS | KS | 20153 | 2.50
RENO | KS | 20155 | 2.90
REPUBLIC | KS | 20157 | 2.60
RICE | KS | 20159 | 2.60
RILEY | KS | 20161 | 2.70
ROOKS | KS | 20163 | 2.50
RUSH | KS | 20165 | 2.50
RUSSELL | KS | 20167 | 2.50
SALINE | KS | 20169 | 2.70
SCOTT | KS | 20171 | 2.50
SEDGWICK | KS | 20173 | 2.90
SEWARD | KS | 20175 | 2.50
SHAWNEE | KS | 20177 | 2.90
SHERIDAN | KS | 20179 | 2.50
SHERMAN | KS | 20181 | 2.50
SMITH | KS | 20183 | 2.50
STAFFORD | KS | 20185 | 2.60
STANTON | KS | 20187 | 2.50
STEVENS | KS | 20189 | 2.50
SUMNER | KS | 20191 | 2.90
THOMAS | KS | 20193 | 2.50
TREGO | KS | 20195 | 2.50
WABAUNSEE | KS | 20197 | 2.90
WALLACE | KS | 20199 | 2.50
WASHINGTON | KS | 20201 | 2.70
WICHITA | KS | 20203 | 2.50
WILSON | KS | 20205 | 2.90
WOODSON | KS | 20207 | 2.90
WYANDOTTE | KS | 20209 | 3.20
ADAIR | KY | 21001 | 4.20
ALLEN | KY | 21003 | 4.20
ANDERSON | KY | 21005 | 4.20
BALLARD | KY | 21007 | 4.00
BARREN | KY | 21009 | 4.20
BATH | KY | 21011 | 4.20
BELL | KY | 21013 | 4.80
BOONE | KY | 21015 | 4.00
BOURBON | KY | 21017 | 4.20
BOYD | KY | 21019 | 4.20
BOYLE | KY | 21021 | 4.20
BRACKEN | KY | 21023 | 4.00
BREATHITT | KY | 21025 | 4.50
BRECKINRIDGE | KY | 21027 | 4.00
BULLITT | KY | 21029 | 4.00
BUTLER | KY | 21031 | 4.20
CALDWELL | KY | 21033 | 4.00
CALLOWAY | KY | 21035 | 4.20
CAMPBELL | KY | 21037 | 4.00
CARLISLE | KY | 21039 | 4.00
CARROLL | KY | 21041 | 4.00
CARTER | KY | 21043 | 4.20
CASEY | KY | 21045 | 4.20
CHRISTIAN | KY | 21047 | 4.20
CLARK | KY | 21049 | 4.20
CLAY | KY | 21051 | 4.50
CLINTON | KY | 21053 | 4.50
CRITTENDEN | KY | 21055 | 4.00
CUMBERLAND | KY | 21057 | 4.50
DAVIESS | KY | 21059 | 4.00
EDMONSON | KY | 21061 | 4.20
ELLIOTT | KY | 21063 | 4.20
ESTILL | KY | 21065 | 4.20
FAYETTE | KY | 21067 | 4.20
FLEMING | KY | 21069 | 4.20
FLOYD | KY | 21071 | 4.50
FRANKLIN | KY | 21073 | 4.00
FULTON | KY | 21075 | 4.00
GALLATIN | KY | 21077 | 4.00
GARRARD | KY | 21079 | 4.20
GRANT | KY | 21081 | 4.00
GRAVES | KY | 21083 | 4.20
GRAYSON | KY | 21085 | 4.00
GREEN | KY | 21087 | 4.20
GREENUP | KY | 21089 | 4.20
HANCOCK | KY | 21091 | 4.00
HARDIN | KY | 21093 | 4.20
HARLAN | KY | 21095 | 4.80
HARRISON | KY | 21097 | 4.20
HART | KY | 21099 | 4.20
HENDERSON | KY | 21101 | 4.00
HENRY | KY | 21103 | 4.00
HICKMAN | KY | 21105 | 4.00
HOPKINS | KY | 21107 | 4.00
JACKSON | KY | 21109 | 4.20
JEFFERSON | KY | 21111 | 4.00
JESSAMINE | KY | 21113 | 4.20
JOHNSON | KY | 21115 | 4.50
KENTON | KY | 21117 | 4.00
KNOTT | KY | 21119 | 4.50
KNOX | KY | 21121 | 4.50
LARUE | KY | 21123 | 4.20
LAUREL | KY | 21125 | 4.50
LAWRENCE | KY | 21127 | 4.20
LEE | KY | 21129 | 4.20
LESLIE | KY | 21131 | 4.50
LETCHER | KY | 21133 | 4.80
LEWIS | KY | 21135 | 4.20
LINCOLN | KY | 21137 | 4.20
LIVINGSTON | KY | 21139 | 4.00
LOGAN | KY | 21141 | 4.20
LYON | KY | 21143 | 4.00
MCCRACKEN | KY | 21145 | 4.00
MCCREARY | KY | 21147 | 4.50
MCLEAN | KY | 21149 | 4.00
MADISON | KY | 21151 | 4.20
MAGOFFIN | KY | 21153 | 4.50
MARION | KY | 21155 | 4.20
MARSHALL | KY | 21157 | 4.00
MARTIN | KY | 21159 | 4.50
MASON | KY | 21161 | 4.20
MEADE | KY | 21163 | 4.00
MENIFEE | KY | 21165 | 4.20
MERCER | KY | 21167 | 4.20
METCALFE | KY | 21169 | 4.20
MONROE | KY | 21171 | 4.50
MONTGOMERY | KY | 21173 | 4.20
MORGAN | KY | 21175 | 4.20
MUHLENBERG | KY | 21177 | 4.00
NELSON | KY | 21179 | 4.20
NICHOLAS | KY | 21181 | 4.20
OHIO | KY | 21183 | 4.00
OLDHAM | KY | 21185 | 4.00
OWEN | KY | 21187 | 4.00
OWSLEY | KY | 21189 | 4.50
PENDLETON | KY | 21191 | 4.00
PERRY | KY | 21193 | 4.50
PIKE | KY | 21195 | 4.50
POWELL | KY | 21197 | 4.20
PULASKI | KY | 21199 | 4.50
ROBERTSON | KY | 21201 | 4.20
ROCKCASTLE | KY | 21203 | 4.20
ROWAN | KY | 21205 | 4.20
RUSSELL | KY | 21207 | 4.50
SCOTT | KY | 21209 | 4.00
SHELBY | KY | 21211 | 4.00
SIMPSON | KY | 21213 | 4.20
SPENCER | KY | 21215 | 4.00
TAYLOR | KY | 21217 | 4.20
TODD | KY | 21219 | 4.20
TRIGG | KY | 21221 | 4.20
TRIMBLE | KY | 21223 | 4.00
UNION | KY | 21225 | 4.00
WARREN | KY | 21227 | 4.20
WASHINGTON | KY | 21229 | 4.20
WAYNE | KY | 21231 | 4.50
WEBSTER | KY | 21233 | 4.00
WHITLEY | KY | 21235 | 4.50
WOLFE | KY | 21237 | 4.20
WOODFORD | KY | 21239 | 4.20
ACADIA | LA | 22001 | 5.20
ALLEN | LA | 22003 | 4.90
ASCENSION | LA | 22005 | 5.20
ASSUMPTION | LA | 22007 | 5.20
AVOYELLES | LA | 22009 | 5.20
BEAUREGARD | LA | 22011 | 4.90
BIENVILLE | LA | 22013 | 4.60
BOSSIER | LA | 22015 | 4.30
CADDO | LA | 22017 | 4.30
CALCASIEU | LA | 22019 | 4.90
CALDWELL | LA | 22021 | 4.90
CAMERON | LA | 22023 | 4.90
CATAHOULA | LA | 22025 | 5.20
CLAIBORNE | LA | 22027 | 4.30
CONCORDIA | LA | 22029 | 5.20
DE SOTO | LA | 22031 | 4.30
EAST BATON ROUGE | LA | 22033 | 5.20
EAST CARROLL | LA | 22035 | 5.20
EAST FELICIANA | LA | 22037 | 5.20
EVANGELINE | LA | 22039 | 4.90
FRANKLIN | LA | 22041 | 4.90
GRANT | LA | 22043 | 4.90
IBERIA | LA | 22045 | 5.20
IBERVILLE | LA | 22047 | 5.20
JACKSON | LA | 22049 | 4.60
JEFFERSON | LA | 22051 | 5.60
JEFFERSON DAVIS | LA | 22053 | 4.90
LAFAYETTE | LA | 22055 | 5.20
LAFOURCHE | LA | 22057 | 5.60
LA SALLE | LA | 22059 | 4.90
LINCOLN | LA | 22061 | 4.60
LIVINGSTON | LA | 22063 | 5.40
MADISON | LA | 22065 | 5.20
MOREHOUSE | LA | 22067 | 4.90
NATCHITOCHES | LA | 22069 | 4.60
ORLEANS | LA | 22071 | 5.60
OUACHITA | LA | 22073 | 4.90
PLAQUEMINES | LA | 22075 | 5.60
POINTE COUPEE | LA | 22077 | 5.20
RAPIDES | LA | 22079 | 4.90
RED RIVER | LA | 22081 | 4.60
RICHLAND | LA | 22083 | 4.90
SABINE | LA | 22085 | 4.60
ST. BERNARD | LA | 22087 | 5.60
ST. CHARLES | LA | 22089 | 5.60
ST. HELENA | LA | 22091 | 5.40
ST. JAMES | LA | 22093 | 5.20
ST. JOHN THE BAPTIST | LA | 22095 | 5.60
ST. LANDRY | LA | 22097 | 5.20
ST. MARTIN | LA | 22099 | 5.20
ST. MARY | LA | 22101 | 5.20
ST. TAMMANY | LA | 22103 | 5.60
TANGIPAHOA | LA | 22105 | 5.40
TENSAS | LA | 22107 | 5.20
TERREBONNE | LA | 22109 | 5.60
UNION | LA | 22111 | 4.60
VERMILION | LA | 22113 | 5.20
VERNON | LA | 22115 | 4.60
WASHINGTON | LA | 22117 | 5.60
WEBSTER | LA | 22119 | 4.30
WEST BATON ROUGE | LA | 22121 | 5.20
WEST CARROLL | LA | 22123 | 4.90
WEST FELICIANA | LA | 22125 | 5.20
WINN | LA | 22127 | 4.60
ANDROSCOGGIN | ME | 23001 | 4.20
AROOSTOOK | ME | 23003 | 3.90
CUMBERLAND | ME | 23005 | 4.50
FRANKLIN | ME | 23007 | 4.20
HANCOCK | ME | 23009 | 3.90
KENNEBEC | ME | 23011 | 4.20
KNOX | ME | 23013 | 4.20
LINCOLN | ME | 23015 | 4.20
OXFORD | ME | 23017 | 4.20
PENOBSCOT | ME | 23019 | 3.90
PISCATAQUIS | ME | 23021 | 3.90
SAGADAHOC | ME | 23023 | 4.20
SOMERSET | ME | 23025 | 3.90
WALDO | ME | 23027 | 3.90
WASHINGTON | ME | 23029 | 3.90
YORK | ME | 23031 | 4.50
ALLEGANY | MD | 24001 | 4.10
ANNE ARUNDEL | MD | 24003 | 4.60
BALTIMORE | MD | 24005 | 4.40
CALVERT | MD | 24009 | 4.80
CAROLINE | MD | 24011 | 4.60
CARROLL | MD | 24013 | 4.40
CECIL | MD | 24015 | 4.40
CHARLES | MD | 24017 | 4.80
DORCHESTER | MD | 24019 | 4.80
FREDERICK | MD | 24021 | 4.40
GARRETT | MD | 24023 | 4.10
HARFORD | MD | 24025 | 4.40
HOWARD | MD | 24027 | 4.60
KENT | MD | 24029 | 4.60
MONTGOMERY | MD | 24031 | 4.60
PRINCE GEORGE'S | MD | 24033 | 4.60
QUEEN ANNE'S | MD | 24035 | 4.60
ST. MARY'S | MD | 24037 | 4.80
SOMERSET | MD | 24039 | 4.80
TALBOT | MD | 24041 | 4.60
WASHINGTON | MD | 24043 | 4.20
WICOMICO | MD | 24045 | 4.80
WORCESTER | MD | 24047 | 4.80
BALTIMORE CITY | MD | 24510 | 4.60
BARNSTABLE | MA | 25001 | 5.10
BERKSHIRE | MA | 25003 | 4.50
BRISTOL | MA | 25005 | 5.10
DUKES | MA | 25007 | 5.10
ESSEX | MA | 25009 | 5.10
FRANKLIN | MA | 25011 | 4.70
HAMPDEN | MA | 25013 | 4.70
HAMPSHIRE | MA | 25015 | 4.70
MIDDLESEX | MA | 25017 | 5.10
NANTUCKET | MA | 25019 | 5.10
NORFOLK | MA | 25021 | 5.10
PLYMOUTH | MA | 25023 | 5.10
SUFFOLK | MA | 25025 | 5.10
WORCESTER | MA | 25027 | 4.90
ALCONA | MI | 26001 | 3.30
ALGER | MI | 26003 | 3.00
ALLEGAN | MI | 26005 | 3.30
ALPENA | MI | 26007 | 3.30
ANTRIM | MI | 26009 | 3.30
ARENAC | MI | 26011 | 3.30
BARAGA | MI | 26013 | 3.00
BARRY | MI | 26015 | 3.30
BAY | MI | 26017 | 3.30
BENZIE | MI | 26019 | 3.30
BERRIEN | MI | 26021 | 3.30
BRANCH | MI | 26023 | 3.30
CALHOUN | MI | 26025 | 3.30
CASS | MI | 26027 | 3.30
CHARLEVOIX | MI | 26029 | 3.30
CHEBOYGAN | MI | 26031 | 3.30
CHIPPEWA | MI | 26033 | 3.00
CLARE | MI | 26035 | 3.30
CLINTON | MI | 26037 | 3.30
CRAWFORD | MI | 26039 | 3.30
DELTA | MI | 26041 | 2.80
DICKINSON | MI | 26043 | 2.80
EATON | MI | 26045 | 3.30
EMMET | MI | 26047 | 3.30
GENESEE | MI | 26049 | 3.30
GLADWIN | MI | 26051 | 3.30
GOGEBIC | MI | 26053 | 2.80
GRAND TRAVERSE | MI | 26055 | 3.30
GRATIOT | MI | 26057 | 3.30
HILLSDALE | MI | 26059 | 3.30
HOUGHTON | MI | 26061 | 3.00
HURON | MI | 26063 | 3.30
INGHAM | MI | 26065 | 3.30
IONIA | MI | 26067 | 3.30
IOSCO | MI | 26069 | 3.30
IRON | MI | 26071 | 2.80
ISABELLA | MI | 26073 | 3.30
JACKSON | MI | 26075 | 3.30
KALAMAZOO | MI | 26077 | 3.30
KALKASKA | MI | 26079 | 3.30
KENT | MI | 26081 | 3.30
KEWEENAW | MI | 26083 | 3.00
LAKE | MI | 26085 | 3.30
LAPEER | MI | 26087 | 3.30
LEELANAU | MI | 26089 | 3.30
LENAWEE | MI | 26091 | 3.30
LIVINGSTON | MI | 26093 | 3.30
LUCE | MI | 26095 | 3.00
MACKINAC | MI | 26097 | 3.00
MACOMB | MI | 26099 | 3.30
MANISTEE | MI | 26101 | 3.30
MARQUETTE | MI | 26103 | 3.00
MASON | MI | 26105 | 3.30
MECOSTA | MI | 26107 | 3.30
MENOMINEE | MI | 26109 | 2.80
MIDLAND | MI | 26111 | 3.30
MISSAUKEE | MI | 26113 | 3.30
MONROE | MI | 26115 | 3.30
MONTCALM | MI | 26117 | 3.30
MONTMORENCY | MI | 26119 | 3.30
MUSKEGON | MI | 26121 | 3.30
NEWAYGO | MI | 26123 | 3.30
OAKLAND | MI | 26125 | 3.30
OCEANA | MI | 26127 | 3.30
OGEMAW | MI | 26129 | 3.30
ONTONAGON | MI | 26131 | 2.80
OSCEOLA | MI | 26133 | 3.30
OSCODA | MI | 26135 | 3.30
OTSEGO | MI | 26137 | 3.30
OTTAWA | MI | 26139 | 3.30
PRESQUE ISLE | MI | 26141 | 3.30
ROSCOMMON | MI | 26143 | 3.30
SAGINAW | MI | 26145 | 3.30
ST. CLAIR | MI | 26147 | 3.30
ST. JOSEPH | MI | 26149 | 3.30
SANILAC | MI | 26151 | 3.30
SCHOOLCRAFT | MI | 26153 | 3.00
SHIAWASSEE | MI | 26155 | 3.30
TUSCOLA | MI | 26157 | 3.30
VAN BUREN | MI | 26159 | 3.30
WASHTENAW | MI | 26161 | 3.30
WAYNE | MI | 26163 | 3.30
WEXFORD | MI | 26165 | 3.30
AITKIN | MN | 27001 | 2.80
ANOKA | MN | 27003 | 2.80
BECKER | MN | 27005 | 2.80
BELTRAMI | MN | 27007 | 2.30
BENTON | MN | 27009 | 2.80
BIG STONE | MN | 27011 | 2.70
BLUE EARTH | MN | 27013 | 2.80
BROWN | MN | 27015 | 2.80
CARLTON | MN | 27017 | 2.80
CARVER | MN | 27019 | 2.80
CASS | MN | 27021 | 2.80
CHIPPEWA | MN | 27023 | 2.80
CHISAGO | MN | 27025 | 2.80
CLAY | MN | 27027 | 2.80
CLEARWATER | MN | 27029 | 2.30
COOK | MN | 27031 | 2.30
COTTONWOOD | MN | 27033 | 2.80
CROW WING | MN | 27035 | 2.80
DAKOTA | MN | 27037 | 2.90
DODGE | MN | 27039 | 2.80
DOUGLAS | MN | 27041 | 2.80
FARIBAULT | MN | 27043 | 2.80
FILLMORE | MN | 27045 | 2.80
FREEBORN | MN | 27047 | 2.80
GOODHUE | MN | 27049 | 2.80
GRANT | MN | 27051 | 2.80
HENNEPIN | MN | 27053 | 2.90
HOUSTON | MN | 27055 | 2.80
HUBBARD | MN | 27057 | 2.80
ISANTI | MN | 27059 | 2.80
ITASCA | MN | 27061 | 2.30
JACKSON | MN | 27063 | 2.80
KANABEC | MN | 27065 | 2.80
KANDIYOHI | MN | 27067 | 2.80
KITTSON | MN | 27069 | 2.30
KOOCHICHING | MN | 27071 | 2.30
LAC QUI PARLE | MN | 27073 | 2.70
LAKE | MN | 27075 | 2.30
LAKE OF THE WOODS | MN | 27077 | 2.30
LE SUEUR | MN | 27079 | 2.80
LINCOLN | MN | 27081 | 2.60
LYON | MN | 27083 | 2.70
MCLEOD | MN | 27085 | 2.80
MAHNOMEN | MN | 27087 | 2.60
MARSHALL | MN | 27089 | 2.30
MARTIN | MN | 27091 | 2.80
MEEKER | MN | 27093 | 2.80
MILLE LACS | MN | 27095 | 2.80
MORRISON | MN | 27097 | 2.80
MOWER | MN | 27099 | 2.80
MURRAY | MN | 27101 | 2.70
NICOLLET | MN | 27103 | 2.80
NOBLES | MN | 27105 | 2.70
NORMAN | MN | 27107 | 2.60
OLMSTED | MN | 27109 | 2.80
OTTER TAIL | MN | 27111 | 2.80
PENNINGTON | MN | 27113 | 2.30
PINE | MN | 27115 | 2.80
PIPESTONE | MN | 27117 | 2.60
POLK | MN | 27119 | 2.30
POPE | MN | 27121 | 2.80
RAMSEY | MN | 27123 | 2.90
RED LAKE | MN | 27125 | 2.30
REDWOOD | MN | 27127 | 2.80
RENVILLE | MN | 27129 | 2.80
RICE | MN | 27131 | 2.80
ROCK | MN | 27133 | 2.60
ROSEAU | MN | 27135 | 2.30
ST. LOUIS | MN | 27137 | 2.30
SCOTT | MN | 27139 | 2.90
SHERBURNE | MN | 27141 | 2.80
SIBLEY | MN | 27143 | 2.80
STEARNS | MN | 27145 | 2.80
STEELE | MN | 27147 | 2.80
STEVENS | MN | 27149 | 2.80
SWIFT | MN | 27151 | 2.80
TODD | MN | 27153 | 2.80
TRAVERSE | MN | 27155 | 2.70
WABASHA | MN | 27157 | 2.80
WADENA | MN | 27159 | 2.80
WASECA | MN | 27161 | 2.80
WASHINGTON | MN | 27163 | 2.90
WATONWAN | MN | 27165 | 2.80
WILKIN | MN | 27167 | 2.80
WINONA | MN | 27169 | 2.80
WRIGHT | MN | 27171 | 2.80
YELLOW MEDICINE | MN | 27173 | 2.70
ADAMS | MS | 28001 | 5.20
ALCORN | MS | 28003 | 4.90
AMITE | MS | 28005 | 5.40
ATTALA | MS | 28007 | 5.20
BENTON | MS | 28009 | 4.90
BOLIVAR | MS | 28011 | 4.90
CALHOUN | MS | 28013 | 5.20
CARROLL | MS | 28015 | 5.20
CHICKASAW | MS | 28017 | 5.20
CHOCTAW | MS | 28019 | 5.20
CLAIBORNE | MS | 28021 | 5.20
CLARKE | MS | 28023 | 5.60
CLAY | MS | 28025 | 5.20
COAHOMA | MS | 28027 | 4.90
COPIAH | MS | 28029 | 5.40
COVINGTON | MS | 28031 | 5.60
DE SOTO | MS | 28033 | 4.60
FORREST | MS | 28035 | 5.80
FRANKLIN | MS | 28037 | 5.20
GEORGE | MS | 28039 | 5.80
GREENE | MS | 28041 | 5.80
GRENADA | MS | 28043 | 5.20
HANCOCK | MS | 28045 | 5.80
HARRISON | MS | 28047 | 5.80
HINDS | MS | 28049 | 5.40
HOLMES | MS | 28051 | 5.20
HUMPHREYS | MS | 28053 | 5.20
ISSAQUENA | MS | 28055 | 5.20
ITAWAMBA | MS | 28057 | 5.20
JACKSON | MS | 28059 | 5.80
JASPER | MS | 28061 | 5.60
JEFFERSON | MS | 28063 | 5.20
JEFFERSON DAVIS | MS | 28065 | 5.60
JONES | MS | 28067 | 5.60
KEMPER | MS | 28069 | 5.40
LAFAYETTE | MS | 28071 | 4.90
LAMAR | MS | 28073 | 5.80
LAUDERDALE | MS | 28075 | 5.60
LAWRENCE | MS | 28077 | 5.60
LEAKE | MS | 28079 | 5.40
LEE | MS | 28081 | 5.20
LEFLORE | MS | 28083 | 5.20
LINCOLN | MS | 28085 | 5.40
LOWNDES | MS | 28087 | 5.20
MADISON | MS | 28089 | 5.40
MARION | MS | 28091 | 5.60
MARSHALL | MS | 28093 | 4.90
MONROE | MS | 28095 | 5.20
MONTGOMERY | MS | 28097 | 5.20
NESHOBA | MS | 28099 | 5.40
NEWTON | MS | 28101 | 5.60
NOXUBEE | MS | 28103 | 5.40
OKTIBBEHA | MS | 28105 | 5.20
PANOLA | MS | 28107 | 4.90
PEARL RIVER | MS | 28109 | 5.80
PERRY | MS | 28111 | 5.80
PIKE | MS | 28113 | 5.40
PONTOTOC | MS | 28115 | 4.90
PRENTISS | MS | 28117 | 4.90
QUITMAN | MS | 28119 | 4.90
RANKIN | MS | 28121 | 5.40
SCOTT | MS | 28123 | 5.40
SHARKEY | MS | 28125 | 5.20
SIMPSON | MS | 28127 | 5.60
SMITH | MS | 28129 | 5.60
STONE | MS | 28131 | 5.80
SUNFLOWER | MS | 28133 | 4.90
TALLAHATCHIE | MS | 28135 | 4.90
TATE | MS | 28137 | 4.90
TIPPAH | MS | 28139 | 4.90
TISHOMINGO | MS | 28141 | 4.90
TUNICA | MS | 28143 | 4.60
UNION | MS | 28145 | 4.90
WALTHALL | MS | 28147 | 5.60
WARREN | MS | 28149 | 5.20
WASHINGTON | MS | 28151 | 4.90
WAYNE | MS | 28153 | 5.80
WEBSTER | MS | 28155 | 5.20
WILKINSON | MS | 28157 | 5.20
WINSTON | MS | 28159 | 5.40
YALOBUSHA | MS | 28161 | 4.90
YAZOO | MS | 28163 | 5.20
ADAIR | MO | 29001 | 3.20
ANDREW | MO | 29003 | 2.90
ATCHISON | MO | 29005 | 2.70
AUDRAIN | MO | 29007 | 3.40
BARRY | MO | 29009 | 3.20
BARTON | MO | 29011 | 3.20
BATES | MO | 29013 | 3.20
BENTON | MO | 29015 | 3.20
BOLLINGER | MO | 29017 | 3.60
BOONE | MO | 29019 | 3.40
BUCHANAN | MO | 29021 | 3.20
BUTLER | MO | 29023 | 4.00
CALDWELL | MO | 29025 | 3.20
CALLAWAY | MO | 29027 | 3.40
CAMDEN | MO | 29029 | 3.40
CAPE GIRARDEAU | MO | 29031 | 3.60
CARROLL | MO | 29033 | 3.20
CARTER | MO | 29035 | 4.00
CASS | MO | 29037 | 3.20
CEDAR | MO | 29039 | 3.20
CHARITON | MO | 29041 | 3.20
CHRISTIAN | MO | 29043 | 3.30
CLARK | MO | 29045 | 3.20
CLAY | MO | 29047 | 3.20
CLINTON | MO | 29049 | 3.20
COLE | MO | 29051 | 3.40
COOPER | MO | 29053 | 3.40
CRAWFORD | MO | 29055 | 3.60
DADE | MO | 29057 | 3.20
DALLAS | MO | 29059 | 3.30
DAVIESS | MO | 29061 | 3.20
DE KALB | MO | 29063 | 3.20
DENT | MO | 29065 | 3.60
DOUGLAS | MO | 29067 | 3.30
DUNKLIN | MO | 29069 | 4.30
FRANKLIN | MO | 29071 | 3.60
GASCONADE | MO | 29073 | 3.60
GENTRY | MO | 29075 | 2.90
GREENE | MO | 29077 | 3.20
GRUNDY | MO | 29079 | 3.20
HARRISON | MO | 29081 | 2.90
HENRY | MO | 29083 | 3.20
HICKORY | MO | 29085 | 3.20
HOLT | MO | 29087 | 2.90
HOWARD | MO | 29089 | 3.40
HOWELL | MO | 29091 | 3.60
IRON | MO | 29093 | 3.60
JACKSON | MO | 29095 | 3.20
JASPER | MO | 29097 | 3.20
JEFFERSON | MO | 29099 | 3.60
JOHNSON | MO | 29101 | 3.20
KNOX | MO | 29103 | 3.20
LACLEDE | MO | 29105 | 3.30
LAFAYETTE | MO | 29107 | 3.20
LAWRENCE | MO | 29109 | 3.20
LEWIS | MO | 29111 | 3.20
LINCOLN | MO | 29113 | 3.60
LINN | MO | 29115 | 3.20
LIVINGSTON | MO | 29117 | 3.20
MCDONALD | MO | 29119 | 3.20
MACON | MO | 29121 | 3.20
MADISON | MO | 29123 | 3.60
MARIES | MO | 29125 | 3.60
MARION | MO | 29127 | 3.20
MERCER | MO | 29129 | 2.90
MILLER | MO | 29131 | 3.40
MISSISSIPPI | MO | 29133 | 4.00
MONITEAU | MO | 29135 | 3.40
MONROE | MO | 29137 | 3.40
MONTGOMERY | MO | 29139 | 3.40
MORGAN | MO | 29141 | 3.40
NEW MADRID | MO | 29143 | 4.00
NEWTON | MO | 29145 | 3.20
NODAWAY | MO | 29147 | 2.90
OREGON | MO | 29149 | 4.00
OSAGE | MO | 29151 | 3.60
OZARK | MO | 29153 | 3.60
PEMISCOT | MO | 29155 | 4.30
PERRY | MO | 29157 | 3.60
PETTIS | MO | 29159 | 3.40
PHELPS | MO | 29161 | 3.60
PIKE | MO | 29163 | 3.40
PLATTE | MO | 29165 | 3.20
POLK | MO | 29167 | 3.20
PULASKI | MO | 29169 | 3.40
PUTNAM | MO | 29171 | 2.90
RALLS | MO | 29173 | 3.40
RANDOLPH | MO | 29175 | 3.40
RAY | MO | 29177 | 3.20
REYNOLDS | MO | 29179 | 3.60
RIPLEY | MO | 29181 | 4.00
ST. CHARLES | MO | 29183 | 3.60
ST. CLAIR | MO | 29185 | 3.20
STE. GENEVIEVE | MO | 29186 | 3.60
ST. FRANCOIS | MO | 29187 | 3.60
ST. LOUIS | MO | 29189 | 3.60
SALINE | MO | 29195 | 3.40
SCHUYLER | MO | 29197 | 3.20
SCOTLAND | MO | 29199 | 3.20
SCOTT | MO | 29201 | 4.00
SHANNON | MO | 29203 | 3.60
SHELBY | MO | 29205 | 3.20
STODDARD | MO | 29207 | 4.00
STONE | MO | 29209 | 3.30
SULLIVAN | MO | 29211 | 3.20
TANEY | MO | 29213 | 3.30
TEXAS | MO | 29215 | 3.60
VERNON | MO | 29217 | 3.20
WARREN | MO | 29219 | 3.60
WASHINGTON | MO | 29221 | 3.60
WAYNE | MO | 29223 | 4.00
WEBSTER | MO | 29225 | 3.20
WORTH | MO | 29227 | 2.90
WRIGHT | MO | 29229 | 3.30
ST. LOUIS CITY | MO | 29510 | 3.60
BEAVERHEAD | MT | 30001 | 1.80
BIG HORN | MT | 30003 | 2.40
BLAINE | MT | 30005 | 2.00
BROADWATER | MT | 30007 | 1.80
CARBON | MT | 30009 | 2.40
CARTER | MT | 30011 | 2.40
CASCADE | MT | 30013 | 1.80
CHOUTEAU | MT | 30015 | 1.80
CUSTER | MT | 30017 | 2.40
DANIELS | MT | 30019 | 2.30
DAWSON | MT | 30021 | 2.40
DEER LODGE | MT | 30023 | 1.80
FALLON | MT | 30025 | 2.40
FERGUS | MT | 30027 | 2.00
FLATHEAD | MT | 30029 | 2.00
GALLATIN | MT | 30031 | 2.00
GARFIELD | MT | 30033 | 2.40
GLACIER | MT | 30035 | 1.80
GOLDEN VALLEY | MT | 30037 | 2.00
GRANITE | MT | 30039 | 1.80
HILL | MT | 30041 | 1.80
JEFFERSON | MT | 30043 | 1.80
JUDITH BASIN | MT | 30045 | 2.00
LAKE | MT | 30047 | 2.00
LEWIS AND CLARK | MT | 30049 | 1.70
LIBERTY | MT | 30051 | 1.80
LINCOLN | MT | 30053 | 2.00
MCCONE | MT | 30055 | 2.40
MADISON | MT | 30057 | 1.80
MEAGHER | MT | 30059 | 1.80
MINERAL | MT | 30061 | 2.00
MISSOULA | MT | 30063 | 1.80
MUSSELSHELL | MT | 30065 | 2.40
PARK | MT | 30067 | 2.00
PETROLEUM | MT | 30069 | 2.40
PHILLIPS | MT | 30071 | 2.30
PONDERA | MT | 30073 | 1.70
POWDER RIVER | MT | 30075 | 2.40
POWELL | MT | 30077 | 1.80
PRAIRIE | MT | 30079 | 2.40
RAVALLI | MT | 30081 | 1.80
RICHLAND | MT | 30083 | 2.40
ROOSEVELT | MT | 30085 | 2.30
ROSEBUD | MT | 30087 | 2.40
SANDERS | MT | 30089 | 2.00
SHERIDAN | MT | 30091 | 2.30
SILVER BOW | MT | 30093 | 1.80
STILLWATER | MT | 30095 | 2.40
SWEET GRASS | MT | 30097 | 2.00
TETON | MT | 30099 | 1.70
TOOLE | MT | 30101 | 1.80
TREASURE | MT | 30103 | 2.40
VALLEY | MT | 30105 | 2.30
WHEATLAND | MT | 30107 | 2.00
WIBAUX | MT | 30109 | 2.40
YELLOWSTONE | MT | 30111 | 2.40
ADAMS | NE | 31001 | 2.60
ANTELOPE | NE | 31003 | 2.60
ARTHUR | NE | 31005 | 2.40
BANNER | NE | 31007 | 2.40
BLAINE | NE | 31009 | 2.50
BOONE | NE | 31011 | 2.60
BOX BUTTE | NE | 31013 | 2.40
BOYD | NE | 31015 | 2.50
BROWN | NE | 31017 | 2.50
BUFFALO | NE | 31019 | 2.50
BURT | NE | 31021 | 2.60
BUTLER | NE | 31023 | 2.60
CASS | NE | 31025 | 2.70
CEDAR | NE | 31027 | 2.60
CHASE | NE | 31029 | 2.50
CHERRY | NE | 31031 | 2.40
CHEYENNE | NE | 31033 | 2.40
CLAY | NE | 31035 | 2.60
COLFAX | NE | 31037 | 2.60
CUMING | NE | 31039 | 2.60
CUSTER | NE | 31041 | 2.50
DAKOTA | NE | 31043 | 2.60
DAWES | NE | 31045 | 2.40
DAWSON | NE | 31047 | 2.50
DEUEL | NE | 31049 | 2.40
DIXON | NE | 31051 | 2.60
DODGE | NE | 31053 | 2.60
DOUGLAS | NE | 31055 | 2.70
DUNDY | NE | 31057 | 2.50
FILLMORE | NE | 31059 | 2.60
FRANKLIN | NE | 31061 | 2.60
FRONTIER | NE | 31063 | 2.50
FURNAS | NE | 31065 | 2.50
GAGE | NE | 31067 | 2.70
GARDEN | NE | 31069 | 2.40
GARFIELD | NE | 31071 | 2.50
GOSPER | NE | 31073 | 2.50
GRANT | NE | 31075 | 2.40
GREELEY | NE | 31077 | 2.60
HALL | NE | 31079 | 2.60
HAMILTON | NE | 31081 | 2.60
HARLAN | NE | 31083 | 2.50
HAYES | NE | 31085 | 2.50
HITCHCOCK | NE | 31087 | 2.50
HOLT | NE | 31089 | 2.50
HOOKER | NE | 31091 | 2.40
HOWARD | NE | 31093 | 2.60
JEFFERSON | NE | 31095 | 2.60
JOHNSON | NE | 31097 | 2.70
KEARNEY | NE | 31099 | 2.60
KEITH | NE | 31101 | 2.50
KEYA PAHA | NE | 31103 | 2.50
KIMBALL | NE | 31105 | 2.40
KNOX | NE | 31107 | 2.60
LANCASTER | NE | 31109 | 2.60
LINCOLN | NE | 31111 | 2.50
LOGAN | NE | 31113 | 2.40
LOUP | NE | 31115 | 2.50
MCPHERSON | NE | 31117 | 2.40
MADISON | NE | 31119 | 2.60
MERRICK | NE | 31121 | 2.60
MORRILL | NE | 31123 | 2.40
NANCE | NE | 31125 | 2.60
NEMAHA | NE | 31127 | 2.70
NUCKOLLS | NE | 31129 | 2.60
OTOE | NE | 31131 | 2.70
PAWNEE | NE | 31133 | 2.70
PERKINS | NE | 31135 | 2.50
PHELPS | NE | 31137 | 2.50
PIERCE | NE | 31139 | 2.60
PLATTE | NE | 31141 | 2.60
POLK | NE | 31143 | 2.60
RED WILLOW | NE | 31145 | 2.50
RICHARDSON | NE | 31147 | 2.70
ROCK | NE | 31149 | 2.50
SALINE | NE | 31151 | 2.60
SARPY | NE | 31153 | 2.70
SAUNDERS | NE | 31155 | 2.60
SCOTTS BLUFF | NE | 31157 | 2.40
SEWARD | NE | 31159 | 2.60
SHERIDAN | NE | 31161 | 2.40
SHERMAN | NE | 31163 | 2.50
SIOUX | NE | 31165 | 2.40
STANTON | NE | 31167 | 2.60
THAYER | NE | 31169 | 2.60
THOMAS | NE | 31171 | 2.40
THURSTON | NE | 31173 | 2.60
VALLEY | NE | 31175 | 2.50
WASHINGTON | NE | 31177 | 2.60
WAYNE | NE | 31179 | 2.60
WEBSTER | NE | 31181 | 2.60
WHEELER | NE | 31183 | 2.50
YORK | NE | 31185 | 2.60
CHURCHILL | NV | 32001 | 1.90
CLARK | NV | 32003 | 2.60
DOUGLAS | NV | 32005 | 1.80
ELKO | NV | 32007 | 2.00
ESMERALDA | NV | 32009 | 2.20
EUREKA | NV | 32011 | 2.20
HUMBOLDT | NV | 32013 | 1.90
LANDER | NV | 32015 | 2.00
LINCOLN | NV | 32017 | 2.50
LYON | NV | 32019 | 1.90
MINERAL | NV | 32021 | 2.00
NYE | NV | 32023 | 2.20
PERSHING | NV | 32027 | 1.90
STOREY | NV | 32029 | 1.90
WASHOE | NV | 32031 | 2.00
WHITE PINE | NV | 32033 | 2.20
CARSON CITY | NV | 32510 | 1.90
BELKNAP | NH | 33001 | 4.50
CARROLL | NH | 33003 | 4.50
CHESHIRE | NH | 33005 | 4.50
COOS | NH | 33007 | 4.20
GRAFTON | NH | 33009 | 4.40
HILLSBOROUGH | NH | 33011 | 4.50
MERRIMACK | NH | 33013 | 4.50
ROCKINGHAM | NH | 33015 | 4.50
STRAFFORD | NH | 33017 | 4.50
SULLIVAN | NH | 33019 | 4.50
ATLANTIC | NJ | 34001 | 4.70
BERGEN | NJ | 34003 | 5.00
BURLINGTON | NJ | 34005 | 4.70
CAMDEN | NJ | 34007 | 4.70
CAPE MAY | NJ | 34009 | 4.70
CUMBERLAND | NJ | 34011 | 4.70
ESSEX | NJ | 34013 | 5.00
GLOUCESTER | NJ | 34015 | 4.70
HUDSON | NJ | 34017 | 5.00
HUNTERDON | NJ | 34019 | 4.70
MERCER | NJ | 34021 | 4.70
MIDDLESEX | NJ | 34023 | 4.90
MONMOUTH | NJ | 34025 | 4.90
MORRIS | NJ | 34027 | 4.90
OCEAN | NJ | 34029 | 4.90
PASSAIC | NJ | 34031 | 5.00
SALEM | NJ | 34033 | 4.70
SOMERSET | NJ | 34035 | 4.90
SUSSEX | NJ | 34037 | 4.70
UNION | NJ | 34039 | 5.00
WARREN | NJ | 34041 | 4.70
BERNALILLO | NM | 35001 | 2.50
CATRON | NM | 35003 | 2.30
CHAVES | NM | 35005 | 2.50
CIBOLA | NM | 35006 | 2.30
COLFAX | NM | 35007 | 2.50
CURRY | NM | 35009 | 2.50
DE BACA | NM | 35011 | 2.50
DONA ANA | NM | 35013 | 2.50
EDDY | NM | 35015 | 2.50
GRANT | NM | 35017 | 2.50
GUADALUPE | NM | 35019 | 2.50
HARDING | NM | 35021 | 2.50
HIDALGO | NM | 35023 | 2.50
LEA | NM | 35025 | 2.50
LINCOLN | NM | 35027 | 2.50
LOS ALAMOS | NM | 35028 | 2.50
LUNA | NM | 35029 | 2.50
MCKINLEY | NM | 35031 | 2.30
MORA | NM | 35033 | 2.50
OTERO | NM | 35035 | 2.50
QUAY | NM | 35037 | 2.50
RIO ARRIBA | NM | 35039 | 2.30
ROOSEVELT | NM | 35041 | 2.50
SANDOVAL | NM | 35043 | 2.50
SAN JUAN | NM | 35045 | 2.30
SAN MIGUEL | NM | 35047 | 2.50
SANTA FE | NM | 35049 | 2.50
SIERRA | NM | 35051 | 2.50
SOCORRO | NM | 35053 | 2.50
TAOS | NM | 35055 | 2.50
TORRANCE | NM | 35057 | 2.50
UNION | NM | 35059 | 2.50
VALENCIA | NM | 35061 | 2.50
ALBANY | NY | 36001 | 4.40
ALLEGANY | NY | 36003 | 3.90
BRONX | NY | 36005 | 5.10
BROOME | NY | 36007 | 4.00
CATTARAUGUS | NY | 36009 | 3.90
CAYUGA | NY | 36011 | 3.90
CHAUTAUQUA | NY | 36013 | 3.90
CHEMUNG | NY | 36015 | 4.00
CHENANGO | NY | 36017 | 4.00
CLINTON | NY | 36019 | 4.20
COLUMBIA | NY | 36021 | 4.40
CORTLAND | NY | 36023 | 3.90
DELAWARE | NY | 36025 | 4.20
DUTCHESS | NY | 36027 | 4.70
ERIE | NY | 36029 | 3.90
ESSEX | NY | 36031 | 4.20
FRANKLIN | NY | 36033 | 4.10
FULTON | NY | 36035 | 4.10
GENESEE | NY | 36037 | 3.90
GREENE | NY | 36039 | 4.40
HAMILTON | NY | 36041 | 4.10
HERKIMER | NY | 36043 | 4.00
JEFFERSON | NY | 36045 | 3.90
KINGS | NY | 36047 | 5.10
LEWIS | NY | 36049 | 3.90
LIVINGSTON | NY | 36051 | 3.90
MADISON | NY | 36053 | 3.90
MONROE | NY | 36055 | 3.90
MONTGOMERY | NY | 36057 | 4.10
NASSAU | NY | 36059 | 5.10
NEW YORK | NY | 36061 | 5.10
NIAGARA | NY | 36063 | 3.90
ONEIDA | NY | 36065 | 3.90
ONONDAGA | NY | 36067 | 3.90
ONTARIO | NY | 36069 | 3.90
ORANGE | NY | 36071 | 4.70
ORLEANS | NY | 36073 | 3.90
OSWEGO | NY | 36075 | 3.90
OTSEGO | NY | 36077 | 4.10
PUTNAM | NY | 36079 | 4.70
QUEENS | NY | 36081 | 5.10
RENSSELAER | NY | 36083 | 4.40
RICHMOND | NY | 36085 | 5.10
ROCKLAND | NY | 36087 | 5.00
ST. LAWRENCE | NY | 36089 | 3.90
SARATOGA | NY | 36091 | 4.20
SCHENECTADY | NY | 36093 | 4.20
SCHOHARIE | NY | 36095 | 4.20
SCHUYLER | NY | 36097 | 3.90
SENECA | NY | 36099 | 3.90
STEUBEN | NY | 36101 | 3.90
SUFFOLK | NY | 36103 | 5.10
SULLIVAN | NY | 36105 | 4.40
TIOGA | NY | 36107 | 4.00
TOMPKINS | NY | 36109 | 3.90
ULSTER | NY | 36111 | 4.40
WARREN | NY | 36113 | 4.20
WASHINGTON | NY | 36115 | 4.20
WAYNE | NY | 36117 | 3.90
WESTCHESTER | NY | 36119 | 5.00
WYOMING | NY | 36121 | 3.90
YATES | NY | 36123 | 3.90
ALAMANCE | NC | 37001 | 5.40
ALEXANDER | NC | 37003 | 5.60
ALLEGHANY | NC | 37005 | 5.40
ANSON | NC | 37007 | 5.80
ASHE | NC | 37009 | 5.40
AVERY | NC | 37011 | 5.40
BEAUFORT | NC | 37013 | 5.80
BERTIE | NC | 37015 | 5.60
BLADEN | NC | 37017 | 5.80
BRUNSWICK | NC | 37019 | 6.00
BUNCOMBE | NC | 37021 | 5.40
BURKE | NC | 37023 | 5.60
CABARRUS | NC | 37025 | 5.60
CALDWELL | NC | 37027 | 5.60
CAMDEN | NC | 37029 | 5.60
CARTERET | NC | 37031 | 6.00
CASWELL | NC | 37033 | 5.40
CATAWBA | NC | 37035 | 5.60
CHATHAM | NC | 37037 | 5.60
CHEROKEE | NC | 37039 | 5.40
CHOWAN | NC | 37041 | 5.60
CLAY | NC | 37043 | 5.60
CLEVELAND | NC | 37045 | 5.60
COLUMBUS | NC | 37047 | 6.00
CRAVEN | NC | 37049 | 6.00
CUMBERLAND | NC | 37051 | 5.80
CURRITUCK | NC | 37053 | 5.60
DARE | NC | 37055 | 5.80
DAVIDSON | NC | 37057 | 5.60
DAVIE | NC | 37059 | 5.60
DUPLIN | NC | 37061 | 5.80
DURHAM | NC | 37063 | 5.40
EDGECOMBE | NC | 37065 | 5.60
FORSYTH | NC | 37067 | 5.40
FRANKLIN | NC | 37069 | 5.60
GASTON | NC | 37071 | 5.60
GATES | NC | 37073 | 5.60
GRAHAM | NC | 37075 | 5.40
GRANVILLE | NC | 37077 | 5.40
GREENE | NC | 37079 | 5.80
GUILFORD | NC | 37081 | 5.40
HALIFAX | NC | 37083 | 5.60
HARNETT | NC | 37085 | 5.80
HAYWOOD | NC | 37087 | 5.40
HENDERSON | NC | 37089 | 5.60
HERTFORD | NC | 37091 | 5.60
HOKE | NC | 37093 | 5.80
HYDE | NC | 37095 | 5.80
IREDELL | NC | 37097 | 5.60
JACKSON | NC | 37099 | 5.60
JOHNSTON | NC | 37101 | 5.80
JONES | NC | 37103 | 6.00
LEE | NC | 37105 | 5.60
LENOIR | NC | 37107 | 5.80
LINCOLN | NC | 37109 | 5.60
MCDOWELL | NC | 37111 | 5.60
MACON | NC | 37113 | 5.60
MADISON | NC | 37115 | 5.40
MARTIN | NC | 37117 | 5.80
MECKLENBURG | NC | 37119 | 5.60
MITCHELL | NC | 37121 | 5.40
MONTGOMERY | NC | 37123 | 5.60
MOORE | NC | 37125 | 5.60
NASH | NC | 37127 | 5.60
NEW HANOVER | NC | 37129 | 6.00
NORTHAMPTON | NC | 37131 | 5.60
ONSLOW | NC | 37133 | 6.00
ORANGE | NC | 37135 | 5.40
PAMLICO | NC | 37137 | 6.00
PASQUOTANK | NC | 37139 | 5.60
PENDER | NC | 37141 | 6.00
PERQUIMANS | NC | 37143 | 5.60
PERSON | NC | 37145 | 5.40
PITT | NC | 37147 | 5.80
POLK | NC | 37149 | 5.60
RANDOLPH | NC | 37151 | 5.60
RICHMOND | NC | 37153 | 5.80
ROBESON | NC | 37155 | 5.80
ROCKINGHAM | NC | 37157 | 5.40
ROWAN | NC | 37159 | 5.60
RUTHERFORD | NC | 37161 | 5.60
SAMPSON | NC | 37163 | 5.80
SCOTLAND | NC | 37165 | 5.80
STANLY | NC | 37167 | 5.60
STOKES | NC | 37169 | 5.40
SURRY | NC | 37171 | 5.40
SWAIN | NC | 37173 | 5.40
TRANSYLVANIA | NC | 37175 | 5.60
TYRRELL | NC | 37177 | 5.80
UNION | NC | 37179 | 5.80
VANCE | NC | 37181 | 5.40
WAKE | NC | 37183 | 5.60
WARREN | NC | 37185 | 5.40
WASHINGTON | NC | 37187 | 5.80
WATAUGA | NC | 37189 | 5.40
WAYNE | NC | 37191 | 5.80
WILKES | NC | 37193 | 5.40
WILSON | NC | 37195 | 5.80
YADKIN | NC | 37197 | 5.40
YANCEY | NC | 37199 | 5.40
ADAMS | ND | 38001 | 2.40
BARNES | ND | 38003 | 2.60
BENSON | ND | 38005 | 2.30
BILLINGS | ND | 38007 | 2.40
BOTTINEAU | ND | 38009 | 2.30
BOWMAN | ND | 38011 | 2.40
BURKE | ND | 38013 | 2.30
BURLEIGH | ND | 38015 | 2.40
CASS | ND | 38017 | 2.80
CAVALIER | ND | 38019 | 2.30
DICKEY | ND | 38021 | 2.60
DIVIDE | ND | 38023 | 2.30
DUNN | ND | 38025 | 2.40
EDDY | ND | 38027 | 2.40
EMMONS | ND | 38029 | 2.40
FOSTER | ND | 38031 | 2.40
GOLDEN VALLEY | ND | 38033 | 2.40
GRAND FORKS | ND | 38035 | 2.30
GRANT | ND | 38037 | 2.40
GRIGGS | ND | 38039 | 2.60
HETTINGER | ND | 38041 | 2.40
KIDDER | ND | 38043 | 2.40
LA MOURE | ND | 38045 | 2.60
LOGAN | ND | 38047 | 2.40
MCHENRY | ND | 38049 | 2.30
MCINTOSH | ND | 38051 | 2.40
MCKENZIE | ND | 38053 | 2.40
MCLEAN | ND | 38055 | 2.40
MERCER | ND | 38057 | 2.40
MORTON | ND | 38059 | 2.40
MOUNTRAIL | ND | 38061 | 2.30
NELSON | ND | 38063 | 2.30
OLIVER | ND | 38065 | 2.40
PEMBINA | ND | 38067 | 2.30
PIERCE | ND | 38069 | 2.30
RAMSEY | ND | 38071 | 2.30
RANSOM | ND | 38073 | 2.60
RENVILLE | ND | 38075 | 2.30
RICHLAND | ND | 38077 | 2.60
ROLETTE | ND | 38079 | 2.30
SARGENT | ND | 38081 | 2.60
SHERIDAN | ND | 38083 | 2.40
SIOUX | ND | 38085 | 2.40
SLOPE | ND | 38087 | 2.40
STARK | ND | 38089 | 2.40
STEELE | ND | 38091 | 2.60
STUTSMAN | ND | 38093 | 2.40
TOWNER | ND | 38095 | 2.30
TRAILL | ND | 38097 | 2.60
WALSH | ND | 38099 | 2.30
WARD | ND | 38101 | 2.30
WELLS | ND | 38103 | 2.40
WILLIAMS | ND | 38105 | 2.30
ADAMS | OH | 39001 | 4.00
ALLEN | OH | 39003 | 3.30
ASHLAND | OH | 39005 | 3.80
ASHTABULA | OH | 39007 | 3.80
ATHENS | OH | 39009 | 4.00
AUGLAIZE | OH | 39011 | 3.60
BELMONT | OH | 39013 | 3.80
BROWN | OH | 39015 | 4.00
BUTLER | OH | 39017 | 3.80
CARROLL | OH | 39019 | 3.80
CHAMPAIGN | OH | 39021 | 3.60
CLARK | OH | 39023 | 3.60
CLERMONT | OH | 39025 | 4.00
CLINTON | OH | 39027 | 3.80
COLUMBIANA | OH | 39029 | 4.00
COSHOCTON | OH | 39031 | 3.80
CRAWFORD | OH | 39033 | 3.60
CUYAHOGA | OH | 39035 | 3.80
DARKE | OH | 39037 | 3.60
DEFIANCE | OH | 39039 | 3.30
DELAWARE | OH | 39041 | 3.60
ERIE | OH | 39043 | 3.60
FAIRFIELD | OH | 39045 | 3.80
FAYETTE | OH | 39047 | 3.80
FRANKLIN | OH | 39049 | 3.60
FULTON | OH | 39051 | 3.30
GALLIA | OH | 39053 | 4.30
GEAUGA | OH | 39055 | 3.80
GREENE | OH | 39057 | 3.60
GUERNSEY | OH | 39059 | 3.80
HAMILTON | OH | 39061 | 3.80
HANCOCK | OH | 39063 | 3.60
HARDIN | OH | 39065 | 3.60
HARRISON | OH | 39067 | 3.80
HENRY | OH | 39069 | 3.30
HIGHLAND | OH | 39071 | 4.00
HOCKING | OH | 39073 | 4.00
HOLMES | OH | 39075 | 3.80
HURON | OH | 39077 | 3.60
JACKSON | OH | 39079 | 4.00
JEFFERSON | OH | 39081 | 3.80
KNOX | OH | 39083 | 3.80
LAKE | OH | 39085 | 3.80
LAWRENCE | OH | 39087 | 4.30
LICKING | OH | 39089 | 3.80
LOGAN | OH | 39091 | 3.60
LORAIN | OH | 39093 | 3.80
LUCAS | OH | 39095 | 3.30
MADISON | OH | 39097 | 3.60
MAHONING | OH | 39099 | 4.00
MARION | OH | 39101 | 3.60
MEDINA | OH | 39103 | 3.80
MEIGS | OH | 39105 | 4.30
MERCER | OH | 39107 | 3.30
MIAMI | OH | 39109 | 3.60
MONROE | OH | 39111 | 4.00
MONTGOMERY | OH | 39113 | 3.60
MORGAN | OH | 39115 | 3.90
MORROW | OH | 39117 | 3.60
MUSKINGUM | OH | 39119 | 3.80
NOBLE | OH | 39121 | 3.80
OTTAWA | OH | 39123 | 3.60
PAULDING | OH | 39125 | 3.30
PERRY | OH | 39127 | 3.80
PICKAWAY | OH | 39129 | 3.80
PIKE | OH | 39131 | 4.00
PORTAGE | OH | 39133 | 3.80
PREBLE | OH | 39135 | 3.60
PUTNAM | OH | 39137 | 3.30
RICHLAND | OH | 39139 | 3.60
ROSS | OH | 39141 | 4.00
SANDUSKY | OH | 39143 | 3.60
SCIOTO | OH | 39145 | 4.00
SENECA | OH | 39147 | 3.60
SHELBY | OH | 39149 | 3.60
STARK | OH | 39151 | 3.80
SUMMIT | OH | 39153 | 3.80
TRUMBULL | OH | 39155 | 4.00
TUSCARAWAS | OH | 39157 | 3.80
UNION | OH | 39159 | 3.60
VAN WERT | OH | 39161 | 3.30
VINTON | OH | 39163 | 4.00
WARREN | OH | 39165 | 3.80
WASHINGTON | OH | 39167 | 4.00
WAYNE | OH | 39169 | 3.80
WILLIAMS | OH | 39171 | 3.30
WOOD | OH | 39173 | 3.60
WYANDOT | OH | 39175 | 3.60
ADAIR | OK | 40001 | 3.30
ALFALFA | OK | 40003 | 2.60
ATOKA | OK | 40005 | 3.60
BEAVER | OK | 40007 | 2.50
BECKHAM | OK | 40009 | 2.60
BLAINE | OK | 40011 | 2.90
BRYAN | OK | 40013 | 3.60
CADDO | OK | 40015 | 2.90
CANADIAN | OK | 40017 | 2.90
CARTER | OK | 40019 | 3.30
CHEROKEE | OK | 40021 | 3.30
CHOCTAW | OK | 40023 | 3.60
CIMARRON | OK | 40025 | 2.50
CLEVELAND | OK | 40027 | 3.30
COAL | OK | 40029 | 3.60
COMANCHE | OK | 40031 | 2.90
COTTON | OK | 40033 | 3.30
CRAIG | OK | 40035 | 3.20
CREEK | OK | 40037 | 3.30
CUSTER | OK | 40039 | 2.60
DELAWARE | OK | 40041 | 3.20
DEWEY | OK | 40043 | 2.60
ELLIS | OK | 40045 | 2.60
GARFIELD | OK | 40047 | 2.90
GARVIN | OK | 40049 | 3.30
GRADY | OK | 40051 | 3.30
GRANT | OK | 40053 | 2.90
GREER | OK | 40055 | 2.60
HARMON | OK | 40057 | 2.60
HARPER | OK | 40059 | 2.60
HASKELL | OK | 40061 | 3.60
HUGHES | OK | 40063 | 3.30
JACKSON | OK | 40065 | 2.90
JEFFERSON | OK | 40067 | 3.30
JOHNSTON | OK | 40069 | 3.60
KAY | OK | 40071 | 2.90
KINGFISHER | OK | 40073 | 2.90
KIOWA | OK | 40075 | 2.90
LATIMER | OK | 40077 | 3.60
LE FLORE | OK | 40079 | 3.60
LINCOLN | OK | 40081 | 3.30
LOGAN | OK | 40083 | 3.30
LOVE | OK | 40085 | 3.30
MCCLAIN | OK | 40087 | 3.30
MCCURTAIN | OK | 40089 | 3.60
MCINTOSH | OK | 40091 | 3.30
MAJOR | OK | 40093 | 2.60
MARSHALL | OK | 40095 | 3.60
MAYES | OK | 40097 | 3.20
MURRAY | OK | 40099 | 3.30
MUSKOGEE | OK | 40101 | 3.30
NOBLE | OK | 40103 | 3.20
NOWATA | OK | 40105 | 3.20
OKFUSKEE | OK | 40107 | 3.30
OKLAHOMA | OK | 40109 | 3.30
OKMULGEE | OK | 40111 | 3.30
OSAGE | OK | 40113 | 3.20
OTTAWA | OK | 40115 | 3.20
PAWNEE | OK | 40117 | 3.20
PAYNE | OK | 40119 | 3.30
PITTSBURG | OK | 40121 | 3.60
PONTOTOC | OK | 40123 | 3.30
POTTAWATOMIE | OK | 40125 | 3.30
PUSHMATAHA | OK | 40127 | 3.60
ROGER MILLS | OK | 40129 | 2.60
ROGERS | OK | 40131 | 3.20
SEMINOLE | OK | 40133 | 3.30
SEQUOYAH | OK | 40135 | 3.30
STEPHENS | OK | 40137 | 3.30
TEXAS | OK | 40139 | 2.50
TILLMAN | OK | 40141 | 2.90
TULSA | OK | 40143 | 3.30
WAGONER | OK | 40145 | 3.30
WASHINGTON | OK | 40147 | 3.20
WASHITA | OK | 40149 | 2.60
WOODS | OK | 40151 | 2.60
WOODWARD | OK | 40153 | 2.60
BAKER | OR | 41001 | 2.20
BENTON | OR | 41003 | 2.20
CLACKAMAS | OR | 41005 | 2.70
CLATSOP | OR | 41007 | 2.20
COLUMBIA | OR | 41009 | 2.20
COOS | OR | 41011 | 2.20
CROOK | OR | 41013 | 2.20
CURRY | OR | 41015 | 2.20
DESCHUTES | OR | 41017 | 2.20
DOUGLAS | OR | 41019 | 2.20
GILLIAM | OR | 41021 | 2.20
GRANT | OR | 41023 | 2.20
HARNEY | OR | 41025 | 2.20
HOOD RIVER | OR | 41027 | 2.20
JACKSON | OR | 41029 | 2.20
JEFFERSON | OR | 41031 | 2.20
JOSEPHINE | OR | 41033 | 2.20
KLAMATH | OR | 41035 | 2.20
LAKE | OR | 41037 | 2.20
LANE | OR | 41039 | 2.20
LINCOLN | OR | 41041 | 2.20
LINN | OR | 41043 | 2.20
MALHEUR | OR | 41045 | 1.80
MARION | OR | 41047 | 2.20
MORROW | OR | 41049 | 2.20
MULTNOMAH | OR | 41051 | 2.70
POLK | OR | 41053 | 2.20
SHERMAN | OR | 41055 | 2.20
TILLAMOOK | OR | 41057 | 2.20
UMATILLA | OR | 41059 | 2.20
UNION | OR | 41061 | 2.20
WALLOWA | OR | 41063 | 2.20
WASCO | OR | 41065 | 2.20
WASHINGTON | OR | 41067 | 2.20
WHEELER | OR | 41069 | 2.20
YAMHILL | OR | 41071 | 2.20
ADAMS | PA | 42001 | 4.30
ALLEGHENY | PA | 42003 | 4.00
ARMSTRONG | PA | 42005 | 4.00
BEAVER | PA | 42007 | 4.00
BEDFORD | PA | 42009 | 4.10
BERKS | PA | 42011 | 4.30
BLAIR | PA | 42013 | 4.00
BRADFORD | PA | 42015 | 4.00
BUCKS | PA | 42017 | 4.50
BUTLER | PA | 42019 | 4.00
CAMBRIA | PA | 42021 | 4.00
CAMERON | PA | 42023 | 4.00
CARBON | PA | 42025 | 4.30
CENTRE | PA | 42027 | 4.00
CHESTER | PA | 42029 | 4.30
CLARION | PA | 42031 | 4.00
CLEARFIELD | PA | 42033 | 4.00
CLINTON | PA | 42035 | 4.00
COLUMBIA | PA | 42037 | 4.10
CRAWFORD | PA | 42039 | 4.00
CUMBERLAND | PA | 42041 | 4.20
DAUPHIN | PA | 42043 | 4.20
DELAWARE | PA | 42045 | 4.40
ELK | PA | 42047 | 4.00
ERIE | PA | 42049 | 3.90
FAYETTE | PA | 42051 | 4.00
FOREST | PA | 42053 | 4.00
FRANKLIN | PA | 42055 | 4.20
FULTON | PA | 42057 | 4.10
GREENE | PA | 42059 | 4.00
HUNTINGDON | PA | 42061 | 4.10
INDIANA | PA | 42063 | 4.00
JEFFERSON | PA | 42065 | 4.00
JUNIATA | PA | 42067 | 4.10
LACKAWANNA | PA | 42069 | 4.30
LANCASTER | PA | 42071 | 4.30
LAWRENCE | PA | 42073 | 4.00
LEBANON | PA | 42075 | 4.20
LEHIGH | PA | 42077 | 4.30
LUZERNE | PA | 42079 | 4.20
LYCOMING | PA | 42081 | 4.10
MCKEAN | PA | 42083 | 3.90
MERCER | PA | 42085 | 4.00
MIFFLIN | PA | 42087 | 4.10
MONROE | PA | 42089 | 4.40
MONTGOMERY | PA | 42091 | 4.40
MONTOUR | PA | 42093 | 4.10
NORTHAMPTON | PA | 42095 | 4.40
NORTHUMBERLAND | PA | 42097 | 4.10
PERRY | PA | 42099 | 4.20
PHILADELPHIA | PA | 42101 | 4.60
PIKE | PA | 42103 | 4.40
POTTER | PA | 42105 | 3.90
SCHUYLKILL | PA | 42107 | 4.20
SNYDER | PA | 42109 | 4.10
SOMERSET | PA | 42111 | 4.10
SULLIVAN | PA | 42113 | 4.10
SUSQUEHANNA | PA | 42115 | 4.20
TIOGA | PA | 42117 | 4.00
UNION | PA | 42119 | 4.10
VENANGO | PA | 42121 | 4.00
WARREN | PA | 42123 | 3.90
WASHINGTON | PA | 42125 | 4.00
WAYNE | PA | 42127 | 4.30
WESTMORELAND | PA | 42129 | 4.00
WYOMING | PA | 42131 | 4.20
YORK | PA | 42133 | 4.30
BRISTOL | RI | 44001 | 5.10
KENT | RI | 44003 | 5.10
NEWPORT | RI | 44005 | 5.10
PROVIDENCE | RI | 44007 | 5.10
WASHINGTON | RI | 44009 | 5.10
ABBEVILLE | SC | 45001 | 5.80
AIKEN | SC | 45003 | 6.00
ALLENDALE | SC | 45005 | 6.00
ANDERSON | SC | 45007 | 5.60
BAMBERG | SC | 45009 | 6.00
BARNWELL | SC | 45011 | 6.00
BEAUFORT | SC | 45013 | 6.00
BERKELEY | SC | 45015 | 6.00
CALHOUN | SC | 45017 | 6.00
CHARLESTON | SC | 45019 | 6.00
CHEROKEE | SC | 45021 | 5.60
CHESTER | SC | 45023 | 5.80
CHESTERFIELD | SC | 45025 | 5.80
CLARENDON | SC | 45027 | 6.00
COLLETON | SC | 45029 | 6.00
DARLINGTON | SC | 45031 | 6.00
DILLON | SC | 45033 | 6.00
DORCHESTER | SC | 45035 | 6.00
EDGEFIELD | SC | 45037 | 5.80
FAIRFIELD | SC | 45039 | 5.80
FLORENCE | SC | 45041 | 6.00
GEORGETOWN | SC | 45043 | 6.00
GREENVILLE | SC | 45045 | 5.60
GREENWOOD | SC | 45047 | 5.80
HAMPTON | SC | 45049 | 6.00
HORRY | SC | 45051 | 6.00
JASPER | SC | 45053 | 6.00
KERSHAW | SC | 45055 | 6.00
LANCASTER | SC | 45057 | 5.80
LAURENS | SC | 45059 | 5.80
LEE | SC | 45061 | 6.00
LEXINGTON | SC | 45063 | 6.00
MCCORMICK | SC | 45065 | 5.80
MARION | SC | 45067 | 6.00
MARLBORO | SC | 45069 | 5.80
NEWBERRY | SC | 45071 | 5.80
OCONEE | SC | 45073 | 5.60
ORANGEBURG | SC | 45075 | 6.00
PICKENS | SC | 45077 | 5.60
RICHLAND | SC | 45079 | 6.00
SALUDA | SC | 45081 | 5.80
SPARTANBURG | SC | 45083 | 5.60
SUMTER | SC | 45085 | 6.00
UNION | SC | 45087 | 5.80
WILLIAMSBURG | SC | 45089 | 6.00
YORK | SC | 45091 | 5.60
AURORA | SD | 46003 | 2.60
BEADLE | SD | 46005 | 2.60
BENNETT | SD | 46007 | 2.40
BON HOMME | SD | 46009 | 2.60
BROOKINGS | SD | 46011 | 2.60
BROWN | SD | 46013 | 2.60
BRULE | SD | 46015 | 2.50
BUFFALO | SD | 46017 | 2.50
BUTTE | SD | 46019 | 2.40
CAMPBELL | SD | 46021 | 2.50
CHARLES MIX | SD | 46023 | 2.50
CLARK | SD | 46025 | 2.60
CLAY | SD | 46027 | 2.60
CODINGTON | SD | 46029 | 2.60
CORSON | SD | 46031 | 2.40
CUSTER | SD | 46033 | 2.40
DAVISON | SD | 46035 | 2.60
DAY | SD | 46037 | 2.60
DEUEL | SD | 46039 | 2.60
DEWEY | SD | 46041 | 2.40
DOUGLAS | SD | 46043 | 2.60
EDMUNDS | SD | 46045 | 2.50
FALL RIVER | SD | 46047 | 2.40
FAULK | SD | 46049 | 2.50
GRANT | SD | 46051 | 2.60
GREGORY | SD | 46053 | 2.50
HAAKON | SD | 46055 | 2.40
HAMLIN | SD | 46057 | 2.60
HAND | SD | 46059 | 2.50
HANSON | SD | 46061 | 2.60
HARDING | SD | 46063 | 2.40
HUGHES | SD | 46065 | 2.50
HUTCHINSON | SD | 46067 | 2.60
HYDE | SD | 46069 | 2.50
JACKSON | SD | 46071 | 2.40
JERAULD | SD | 46073 | 2.60
JONES | SD | 46075 | 2.40
KINGSBURY | SD | 46077 | 2.60
LAKE | SD | 46079 | 2.60
LAWRENCE | SD | 46081 | 2.40
LINCOLN | SD | 46083 | 2.60
LYMAN | SD | 46085 | 2.50
MCCOOK | SD | 46087 | 2.60
MCPHERSON | SD | 46089 | 2.50
MARSHALL | SD | 46091 | 2.60
MEADE | SD | 46093 | 2.40
MELLETTE | SD | 46095 | 2.40
MINER | SD | 46097 | 2.60
MINNEHAHA | SD | 46099 | 2.60
MOODY | SD | 46101 | 2.60
OGLALA LAKOTA | SD | 46102 | 2.40
PENNINGTON | SD | 46103 | 2.40
PERKINS | SD | 46105 | 2.40
POTTER | SD | 46107 | 2.50
ROBERTS | SD | 46109 | 2.60
SANBORN | SD | 46111 | 2.60
SHANNON | SD | 46113 | 0.00
SPINK | SD | 46115 | 2.60
STANLEY | SD | 46117 | 2.40
SULLY | SD | 46119 | 2.50
TODD | SD | 46121 | 2.40
TRIPP | SD | 46123 | 2.50
TURNER | SD | 46125 | 2.60
UNION | SD | 46127 | 2.60
WALWORTH | SD | 46129 | 2.50
YANKTON | SD | 46135 | 2.60
ZIEBACH | SD | 46137 | 2.40
ANDERSON | TN | 47001 | 4.90
BEDFORD | TN | 47003 | 4.90
BENTON | TN | 47005 | 4.60
BLEDSOE | TN | 47007 | 4.90
BLOUNT | TN | 47009 | 5.20
BRADLEY | TN | 47011 | 5.20
CAMPBELL | TN | 47013 | 4.90
CANNON | TN | 47015 | 4.90
CARROLL | TN | 47017 | 4.60
CARTER | TN | 47019 | 5.20
CHEATHAM | TN | 47021 | 4.60
CHESTER | TN | 47023 | 4.60
CLAIBORNE | TN | 47025 | 4.90
CLAY | TN | 47027 | 4.60
COCKE | TN | 47029 | 5.20
COFFEE | TN | 47031 | 4.90
CROCKETT | TN | 47033 | 4.30
CUMBERLAND | TN | 47035 | 4.90
DAVIDSON | TN | 47037 | 4.60
DECATUR | TN | 47039 | 4.60
DE KALB | TN | 47041 | 4.90
DICKSON | TN | 47043 | 4.60
DYER | TN | 47045 | 4.30
FAYETTE | TN | 47047 | 4.60
FENTRESS | TN | 47049 | 4.60
FRANKLIN | TN | 47051 | 5.20
GIBSON | TN | 47053 | 4.30
GILES | TN | 47055 | 4.90
GRAINGER | TN | 47057 | 4.90
GREENE | TN | 47059 | 5.20
GRUNDY | TN | 47061 | 4.90
HAMBLEN | TN | 47063 | 5.20
HAMILTON | TN | 47065 | 5.20
HANCOCK | TN | 47067 | 4.90
HARDEMAN | TN | 47069 | 4.60
HARDIN | TN | 47071 | 4.90
HAWKINS | TN | 47073 | 5.20
HAYWOOD | TN | 47075 | 4.60
HENDERSON | TN | 47077 | 4.60
HENRY | TN | 47079 | 4.30
HICKMAN | TN | 47081 | 4.60
HOUSTON | TN | 47083 | 4.60
HUMPHREYS | TN | 47085 | 4.60
JACKSON | TN | 47087 | 4.60
JEFFERSON | TN | 47089 | 5.20
JOHNSON | TN | 47091 | 5.20
KNOX | TN | 47093 | 4.90
LAKE | TN | 47095 | 4.30
LAUDERDALE | TN | 47097 | 4.30
LAWRENCE | TN | 47099 | 4.90
LEWIS | TN | 47101 | 4.90
LINCOLN | TN | 47103 | 5.20
LOUDON | TN | 47105 | 5.20
MCMINN | TN | 47107 | 5.20
MCNAIRY | TN | 47109 | 4.90
MACON | TN | 47111 | 4.60
MADISON | TN | 47113 | 4.60
MARION | TN | 47115 | 5.20
MARSHALL | TN | 47117 | 4.90
MAURY | TN | 47119 | 4.90
MEIGS | TN | 47121 | 5.20
MONROE | TN | 47123 | 5.20
MONTGOMERY | TN | 47125 | 4.30
MOORE | TN | 47127 | 4.90
MORGAN | TN | 47129 | 4.90
OBION | TN | 47131 | 4.30
OVERTON | TN | 47133 | 4.60
PERRY | TN | 47135 | 4.60
PICKETT | TN | 47137 | 4.60
POLK | TN | 47139 | 5.40
PUTNAM | TN | 47141 | 4.60
RHEA | TN | 47143 | 4.90
ROANE | TN | 47145 | 4.90
ROBERTSON | TN | 47147 | 4.60
RUTHERFORD | TN | 47149 | 4.60
SCOTT | TN | 47151 | 4.90
SEQUATCHIE | TN | 47153 | 5.20
SEVIER | TN | 47155 | 5.20
SHELBY | TN | 47157 | 4.60
SMITH | TN | 47159 | 4.60
STEWART | TN | 47161 | 4.30
SULLIVAN | TN | 47163 | 5.20
SUMNER | TN | 47165 | 4.60
TIPTON | TN | 47167 | 4.60
TROUSDALE | TN | 47169 | 4.60
UNICOI | TN | 47171 | 5.40
UNION | TN | 47173 | 4.90
VAN BUREN | TN | 47175 | 4.90
WARREN | TN | 47177 | 4.90
WASHINGTON | TN | 47179 | 5.20
WAYNE | TN | 47181 | 4.90
WEAKLEY | TN | 47183 | 4.30
WHITE | TN | 47185 | 4.90
WILLIAMSON | TN | 47187 | 4.60
WILSON | TN | 47189 | 4.60
ANDERSON | TX | 48001 | 4.00
ANDREWS | TX | 48003 | 2.90
ANGELINA | TX | 48005 | 4.60
ARANSAS | TX | 48007 | 4.60
ARCHER | TX | 48009 | 3.30
ARMSTRONG | TX | 48011 | 2.50
ATASCOSA | TX | 48013 | 4.30
AUSTIN | TX | 48015 | 4.30
BAILEY | TX | 48017 | 2.50
BANDERA | TX | 48019 | 4.00
BASTROP | TX | 48021 | 4.30
BAYLOR | TX | 48023 | 2.90
BEE | TX | 48025 | 4.60
BELL | TX | 48027 | 4.00
BEXAR | TX | 48029 | 4.30
BLANCO | TX | 48031 | 4.00
BORDEN | TX | 48033 | 2.90
BOSQUE | TX | 48035 | 3.60
BOWIE | TX | 48037 | 4.00
BRAZORIA | TX | 48039 | 4.80
BRAZOS | TX | 48041 | 4.30
BREWSTER | TX | 48043 | 3.30
BRISCOE | TX | 48045 | 2.50
BROOKS | TX | 48047 | 4.60
BROWN | TX | 48049 | 3.60
BURLESON | TX | 48051 | 4.30
BURNET | TX | 48053 | 4.00
CALDWELL | TX | 48055 | 4.30
CALHOUN | TX | 48057 | 4.60
CALLAHAN | TX | 48059 | 3.30
CAMERON | TX | 48061 | 4.60
CAMP | TX | 48063 | 3.70
CARSON | TX | 48065 | 2.50
CASS | TX | 48067 | 4.00
CASTRO | TX | 48069 | 2.50
CHAMBERS | TX | 48071 | 4.80
CHEROKEE | TX | 48073 | 4.00
CHILDRESS | TX | 48075 | 2.60
CLAY | TX | 48077 | 3.30
COCHRAN | TX | 48079 | 2.50
COKE | TX | 48081 | 3.30
COLEMAN | TX | 48083 | 3.60
COLLIN | TX | 48085 | 3.70
COLLINGSWORTH | TX | 48087 | 2.60
COLORADO | TX | 48089 | 4.30
COMAL | TX | 48091 | 4.00
COMANCHE | TX | 48093 | 3.60
CONCHO | TX | 48095 | 3.60
COOKE | TX | 48097 | 3.30
CORYELL | TX | 48099 | 4.00
COTTLE | TX | 48101 | 2.60
CRANE | TX | 48103 | 2.90
CROCKETT | TX | 48105 | 3.30
CROSBY | TX | 48107 | 2.60
CULBERSON | TX | 48109 | 2.90
DALLAM | TX | 48111 | 2.50
DALLAS | TX | 48113 | 3.70
DAWSON | TX | 48115 | 2.90
DEAF SMITH | TX | 48117 | 2.50
DELTA | TX | 48119 | 3.70
DENTON | TX | 48121 | 3.70
DE WITT | TX | 48123 | 4.30
DICKENS | TX | 48125 | 2.60
DIMMIT | TX | 48127 | 4.00
DONLEY | TX | 48129 | 2.50
DUVAL | TX | 48131 | 4.60
EASTLAND | TX | 48133 | 3.60
ECTOR | TX | 48135 | 2.90
EDWARDS | TX | 48137 | 3.60
ELLIS | TX | 48139 | 3.70
EL PASO | TX | 48141 | 2.70
ERATH | TX | 48143 | 3.60
FALLS | TX | 48145 | 4.00
FANNIN | TX | 48147 | 3.70
FAYETTE | TX | 48149 | 4.30
FISHER | TX | 48151 | 2.90
FLOYD | TX | 48153 | 2.60
FOARD | TX | 48155 | 2.90
FORT BEND | TX | 48157 | 4.60
FRANKLIN | TX | 48159 | 3.70
FREESTONE | TX | 48161 | 4.00
FRIO | TX | 48163 | 4.30
GAINES | TX | 48165 | 2.60
GALVESTON | TX | 48167 | 4.80
GARZA | TX | 48169 | 2.90
GILLESPIE | TX | 48171 | 4.00
GLASSCOCK | TX | 48173 | 3.30
GOLIAD | TX | 48175 | 4.60
GONZALES | TX | 48177 | 4.30
GRAY | TX | 48179 | 2.50
GRAYSON | TX | 48181 | 3.70
GREGG | TX | 48183 | 4.00
GRIMES | TX | 48185 | 4.60
GUADALUPE | TX | 48187 | 4.30
HALE | TX | 48189 | 2.50
HALL | TX | 48191 | 2.50
HAMILTON | TX | 48193 | 3.60
HANSFORD | TX | 48195 | 2.50
HARDEMAN | TX | 48197 | 2.90
HARDIN | TX | 48199 | 4.80
HARRIS | TX | 48201 | 4.80
HARRISON | TX | 48203 | 4.00
HARTLEY | TX | 48205 | 2.50
HASKELL | TX | 48207 | 2.90
HAYS | TX | 48209 | 4.00
HEMPHILL | TX | 48211 | 2.60
HENDERSON | TX | 48213 | 3.70
HIDALGO | TX | 48215 | 4.60
HILL | TX | 48217 | 3.70
HOCKLEY | TX | 48219 | 2.60
HOOD | TX | 48221 | 3.70
HOPKINS | TX | 48223 | 3.70
HOUSTON | TX | 48225 | 4.00
HOWARD | TX | 48227 | 2.90
HUDSPETH | TX | 48229 | 2.70
HUNT | TX | 48231 | 3.70
HUTCHINSON | TX | 48233 | 2.50
IRION | TX | 48235 | 3.30
JACK | TX | 48237 | 3.30
JACKSON | TX | 48239 | 4.60
JASPER | TX | 48241 | 4.80
JEFF DAVIS | TX | 48243 | 2.90
JEFFERSON | TX | 48245 | 4.80
JIM HOGG | TX | 48247 | 4.60
JIM WELLS | TX | 48249 | 4.60
JOHNSON | TX | 48251 | 3.70
JONES | TX | 48253 | 3.30
KARNES | TX | 48255 | 4.30
KAUFMAN | TX | 48257 | 3.70
KENDALL | TX | 48259 | 4.00
KENEDY | TX | 48261 | 4.60
KENT | TX | 48263 | 2.90
KERR | TX | 48265 | 4.00
KIMBLE | TX | 48267 | 3.60
KING | TX | 48269 | 2.90
KINNEY | TX | 48271 | 4.00
KLEBERG | TX | 48273 | 4.60
KNOX | TX | 48275 | 2.90
LAMAR | TX | 48277 | 3.70
LAMB | TX | 48279 | 2.50
LAMPASAS | TX | 48281 | 4.00
LA SALLE | TX | 48283 | 4.30
LAVACA | TX | 48285 | 4.30
LEE | TX | 48287 | 4.30
LEON | TX | 48289 | 4.00
LIBERTY | TX | 48291 | 4.80
LIMESTONE | TX | 48293 | 4.00
LIPSCOMB | TX | 48295 | 2.60
LIVE OAK | TX | 48297 | 4.30
LLANO | TX | 48299 | 4.00
LOVING | TX | 48301 | 2.90
LUBBOCK | TX | 48303 | 2.60
LYNN | TX | 48305 | 2.90
MCCULLOCH | TX | 48307 | 3.60
MCLENNAN | TX | 48309 | 4.00
MCMULLEN | TX | 48311 | 4.30
MADISON | TX | 48313 | 4.00
MARION | TX | 48315 | 4.00
MARTIN | TX | 48317 | 2.90
MASON | TX | 48319 | 3.60
MATAGORDA | TX | 48321 | 4.80
MAVERICK | TX | 48323 | 4.00
MEDINA | TX | 48325 | 4.00
MENARD | TX | 48327 | 3.60
MIDLAND | TX | 48329 | 2.90
MILAM | TX | 48331 | 4.00
MILLS | TX | 48333 | 3.60
MITCHELL | TX | 48335 | 3.30
MONTAGUE | TX | 48337 | 3.30
MONTGOMERY | TX | 48339 | 4.80
MOORE | TX | 48341 | 2.50
MORRIS | TX | 48343 | 3.70
MOTLEY | TX | 48345 | 2.60
NACOGDOCHES | TX | 48347 | 4.00
NAVARRO | TX | 48349 | 3.70
NEWTON | TX | 48351 | 4.80
NOLAN | TX | 48353 | 3.30
NUECES | TX | 48355 | 4.60
OCHILTREE | TX | 48357 | 2.50
OLDHAM | TX | 48359 | 2.50
ORANGE | TX | 48361 | 4.80
PALO PINTO | TX | 48363 | 3.30
PANOLA | TX | 48365 | 4.00
PARKER | TX | 48367 | 3.70
PARMER | TX | 48369 | 2.50
PECOS | TX | 48371 | 3.30
POLK | TX | 48373 | 4.60
POTTER | TX | 48375 | 2.50
PRESIDIO | TX | 48377 | 2.90
RAINS | TX | 48379 | 3.70
RANDALL | TX | 48381 | 2.50
REAGAN | TX | 48383 | 3.30
REAL | TX | 48385 | 4.00
RED RIVER | TX | 48387 | 3.70
REEVES | TX | 48389 | 2.90
REFUGIO | TX | 48391 | 4.60
ROBERTS | TX | 48393 | 2.50
ROBERTSON | TX | 48395 | 4.00
ROCKWALL | TX | 48397 | 3.70
RUNNELS | TX | 48399 | 3.30
RUSK | TX | 48401 | 4.00
SABINE | TX | 48403 | 4.60
SAN AUGUSTINE | TX | 48405 | 4.60
SAN JACINTO | TX | 48407 | 4.60
SAN PATRICIO | TX | 48409 | 4.60
SAN SABA | TX | 48411 | 3.60
SCHLEICHER | TX | 48413 | 3.60
SCURRY | TX | 48415 | 2.90
SHACKELFORD | TX | 48417 | 3.30
SHELBY | TX | 48419 | 4.60
SHERMAN | TX | 48421 | 2.50
SMITH | TX | 48423 | 3.70
SOMERVELL | TX | 48425 | 3.70
STARR | TX | 48427 | 4.60
STEPHENS | TX | 48429 | 3.30
STERLING | TX | 48431 | 3.30
STONEWALL | TX | 48433 | 2.90
SUTTON | TX | 48435 | 3.60
SWISHER | TX | 48437 | 2.50
TARRANT | TX | 48439 | 3.70
TAYLOR | TX | 48441 | 3.30
TERRELL | TX | 48443 | 3.30
TERRY | TX | 48445 | 2.60
THROCKMORTON | TX | 48447 | 3.30
TITUS | TX | 48449 | 3.70
TOM GREEN | TX | 48451 | 3.30
TRAVIS | TX | 48453 | 4.00
TRINITY | TX | 48455 | 4.60
TYLER | TX | 48457 | 4.80
UPSHUR | TX | 48459 | 3.70
UPTON | TX | 48461 | 3.30
UVALDE | TX | 48463 | 4.00
VAL VERDE | TX | 48465 | 3.60
VAN ZANDT | TX | 48467 | 3.70
VICTORIA | TX | 48469 | 4.60
WALKER | TX | 48471 | 4.60
WALLER | TX | 48473 | 4.60
WARD | TX | 48475 | 2.90
WASHINGTON | TX | 48477 | 4.30
WEBB | TX | 48479 | 4.30
WHARTON | TX | 48481 | 4.60
WHEELER | TX | 48483 | 2.60
WICHITA | TX | 48485 | 2.90
WILBARGER | TX | 48487 | 2.90
WILLACY | TX | 48489 | 4.60
WILLIAMSON | TX | 48491 | 4.00
WILSON | TX | 48493 | 4.30
WINKLER | TX | 48495 | 2.90
WISE | TX | 48497 | 3.30
WOOD | TX | 48499 | 3.70
YOAKUM | TX | 48501 | 2.60
YOUNG | TX | 48503 | 3.30
ZAPATA | TX | 48505 | 4.30
ZAVALA | TX | 48507 | 4.00
BEAVER | UT | 49001 | 2.40
BOX ELDER | UT | 49003 | 2.00
CACHE | UT | 49005 | 2.20
CARBON | UT | 49007 | 2.20
DAGGETT | UT | 49009 | 2.30
DAVIS | UT | 49011 | 2.20
DUCHESNE | UT | 49013 | 2.20
EMERY | UT | 49015 | 2.30
GARFIELD | UT | 49017 | 2.30
GRAND | UT | 49019 | 2.30
IRON | UT | 49021 | 2.40
JUAB | UT | 49023 | 2.20
KANE | UT | 49025 | 2.40
MILLARD | UT | 49027 | 2.30
MORGAN | UT | 49029 | 2.20
PIUTE | UT | 49031 | 2.30
RICH | UT | 49033 | 2.20
SALT LAKE | UT | 49035 | 2.20
SAN JUAN | UT | 49037 | 2.30
SANPETE | UT | 49039 | 2.20
SEVIER | UT | 49041 | 2.30
SUMMIT | UT | 49043 | 2.20
TOOELE | UT | 49045 | 2.20
UINTAH | UT | 49047 | 2.30
UTAH | UT | 49049 | 2.20
WASATCH | UT | 49051 | 2.20
WASHINGTON | UT | 49053 | 2.50
WAYNE | UT | 49055 | 2.30
WEBER | UT | 49057 | 2.20
ADDISON | VT | 50001 | 4.30
BENNINGTON | VT | 50003 | 4.50
CALEDONIA | VT | 50005 | 4.30
CHITTENDEN | VT | 50007 | 4.30
ESSEX | VT | 50009 | 4.20
FRANKLIN | VT | 50011 | 4.20
GRAND ISLE | VT | 50013 | 4.20
LAMOILLE | VT | 50015 | 4.30
ORANGE | VT | 50017 | 4.30
ORLEANS | VT | 50019 | 4.20
RUTLAND | VT | 50021 | 4.30
WASHINGTON | VT | 50023 | 4.30
WINDHAM | VT | 50025 | 4.50
WINDSOR | VT | 50027 | 4.50
ACCOMACK | VA | 51001 | 4.80
ALBEMARLE | VA | 51003 | 4.50
ALLEGHANY | VA | 51005 | 4.50
AMELIA | VA | 51007 | 4.80
AMHERST | VA | 51009 | 4.50
APPOMATTOX | VA | 51011 | 4.80
ARLINGTON | VA | 51013 | 4.60
AUGUSTA | VA | 51015 | 4.30
BATH | VA | 51017 | 4.50
BEDFORD | VA | 51019 | 4.80
BLAND | VA | 51021 | 4.80
BOTETOURT | VA | 51023 | 4.80
BRUNSWICK | VA | 51025 | 5.20
BUCHANAN | VA | 51027 | 4.80
BUCKINGHAM | VA | 51029 | 4.80
CAMPBELL | VA | 51031 | 4.80
CAROLINE | VA | 51033 | 4.80
CARROLL | VA | 51035 | 5.20
CHARLES CITY | VA | 51036 | 5.20
CHARLOTTE | VA | 51037 | 4.80
CHESTERFIELD | VA | 51041 | 4.80
CLARKE | VA | 51043 | 4.30
CRAIG | VA | 51045 | 4.80
CULPEPER | VA | 51047 | 4.50
CUMBERLAND | VA | 51049 | 4.80
DICKENSON | VA | 51051 | 4.80
DINWIDDIE | VA | 51053 | 5.20
ESSEX | VA | 51057 | 4.80
FAIRFAX | VA | 51059 | 4.60
FAUQUIER | VA | 51061 | 4.50
FLOYD | VA | 51063 | 5.20
FLUVANNA | VA | 51065 | 4.50
FRANKLIN COUNTY | VA | 51067 | 4.80
FREDERICK | VA | 51069 | 4.30
GILES | VA | 51071 | 4.80
GLOUCESTER | VA | 51073 | 5.20
GOOCHLAND | VA | 51075 | 4.80
GRAYSON | VA | 51077 | 5.20
GREENE | VA | 51079 | 4.50
GREENSVILLE | VA | 51081 | 5.20
HALIFAX | VA | 51083 | 5.20
HANOVER | VA | 51085 | 4.80
HENRICO | VA | 51087 | 4.80
HENRY | VA | 51089 | 5.20
HIGHLAND | VA | 51091 | 4.30
ISLE OF WIGHT | VA | 51093 | 5.20
JAMES CITY | VA | 51095 | 5.20
KING AND QUEEN | VA | 51097 | 4.80
KING GEORGE | VA | 51099 | 4.80
KING WILLIAM | VA | 51101 | 4.80
LANCASTER | VA | 51103 | 5.20
LEE | VA | 51105 | 4.80
LOUDOUN | VA | 51107 | 4.40
LOUISA | VA | 51109 | 4.50
LUNENBURG | VA | 51111 | 5.20
MADISON | VA | 51113 | 4.50
MATHEWS | VA | 51115 | 5.20
MECKLENBURG | VA | 51117 | 5.20
MIDDLESEX | VA | 51119 | 5.20
MONTGOMERY | VA | 51121 | 4.80
NELSON | VA | 51125 | 4.50
NEW KENT | VA | 51127 | 5.20
NORTHAMPTON | VA | 51131 | 4.80
NORTHUMBERLAND | VA | 51133 | 4.80
NOTTOWAY | VA | 51135 | 4.80
ORANGE | VA | 51137 | 4.50
PAGE | VA | 51139 | 4.30
PATRICK | VA | 51141 | 5.20
PITTSYLVANIA | VA | 51143 | 5.20
POWHATAN | VA | 51145 | 4.80
PRINCE EDWARD | VA | 51147 | 4.80
PRINCE GEORGE | VA | 51149 | 5.20
PRINCE WILLIAM | VA | 51153 | 4.50
PULASKI | VA | 51155 | 4.80
RAPPAHANNOCK | VA | 51157 | 4.50
RICHMOND | VA | 51159 | 4.80
ROANOKE | VA | 51161 | 4.80
ROCKBRIDGE | VA | 51163 | 4.50
ROCKINGHAM | VA | 51165 | 4.30
RUSSELL | VA | 51167 | 4.80
SCOTT | VA | 51169 | 4.80
SHENANDOAH | VA | 51171 | 4.30
SMYTH | VA | 51173 | 5.20
SOUTHAMPTON | VA | 51175 | 5.20
SPOTSYLVANIA | VA | 51177 | 4.50
STAFFORD | VA | 51179 | 4.50
SURRY | VA | 51181 | 5.20
SUSSEX | VA | 51183 | 5.20
TAZEWELL | VA | 51185 | 4.80
WARREN | VA | 51187 | 4.30
WASHINGTON | VA | 51191 | 5.20
WESTMORELAND | VA | 51193 | 4.80
WISE | VA | 51195 | 4.80
WYTHE | VA | 51197 | 5.20
YORK | VA | 51199 | 5.20
ALEXANDRIA CITY | VA | 51510 | 4.50
BRISTOL CITY | VA | 51520 | 5.20
BUENA VISTA CITY | VA | 51530 | 4.50
CHARLOTTESVILLE CITY | VA | 51540 | 4.50
CHESAPEAKE CITY | VA | 51550 | 5.20
COLONIAL HEIGHTS CITY | VA | 51570 | 4.80
COVINGTON CITY | VA | 51580 | 4.50
DANVILLE CITY | VA | 51590 | 5.20
EMPORIA CITY | VA | 51595 | 5.20
FAIRFAX CITY | VA | 51600 | 4.50
FALLS CHURCH CITY | VA | 51610 | 4.50
FRANKLIN CITY | VA | 51620 | 5.20
FREDERICKSBURG CITY | VA | 51630 | 4.50
GALAX CITY | VA | 51640 | 5.20
HAMPTON CITY | VA | 51650 | 5.20
HARRISONBURG CITY | VA | 51660 | 4.30
HOPEWELL CITY | VA | 51670 | 5.20
LEXINGTON CITY | VA | 51678 | 4.50
LYNCHBURG CITY | VA | 51680 | 4.80
MANASSAS CITY | VA | 51683 | 4.50
MANASSAS PARK CITY | VA | 51685 | 4.50
MARTINSVILLE CITY | VA | 51690 | 5.20
NEWPORT NEWS CITY | VA | 51700 | 5.20
NORFOLK CITY | VA | 51710 | 5.20
NORTON CITY | VA | 51720 | 4.80
PETERSBURG CITY | VA | 51730 | 5.20
POQUOSON CITY | VA | 51735 | 5.20
PORTSMOUTH CITY | VA | 51740 | 5.20
RADFORD CITY | VA | 51750 | 4.80
RICHMOND CITY | VA | 51760 | 4.80
ROANOKE CITY | VA | 51770 | 4.80
SALEM CITY | VA | 51775 | 4.80
STAUNTON CITY | VA | 51790 | 4.30
SUFFOLK CITY | VA | 51800 | 5.20
VIRGINIA BEACH CITY | VA | 51810 | 5.20
WAYNESBORO CITY | VA | 51820 | 4.30
WILLIAMSBURG CITY | VA | 51830 | 5.20
WINCHESTER CITY | VA | 51840 | 4.30
ADAMS | WA | 53001 | 2.20
ASOTIN | WA | 53003 | 2.20
BENTON | WA | 53005 | 2.20
CHELAN | WA | 53007 | 2.40
CLALLAM | WA | 53009 | 2.40
CLARK | WA | 53011 | 2.70
COLUMBIA | WA | 53013 | 2.20
COWLITZ | WA | 53015 | 2.40
DOUGLAS | WA | 53017 | 2.40
FERRY | WA | 53019 | 2.40
FRANKLIN | WA | 53021 | 2.20
GARFIELD | WA | 53023 | 2.20
GRANT | WA | 53025 | 2.20
GRAYS HARBOR | WA | 53027 | 2.40
ISLAND | WA | 53029 | 2.40
JEFFERSON | WA | 53031 | 2.40
KING | WA | 53033 | 2.70
KITSAP | WA | 53035 | 2.40
KITTITAS | WA | 53037 | 2.40
KLICKITAT | WA | 53039 | 2.20
LEWIS | WA | 53041 | 2.40
LINCOLN | WA | 53043 | 2.40
MASON | WA | 53045 | 2.40
OKANOGAN | WA | 53047 | 2.40
PACIFIC | WA | 53049 | 2.40
PEND OREILLE | WA | 53051 | 2.40
PIERCE | WA | 53053 | 2.40
SAN JUAN | WA | 53055 | 2.40
SKAGIT | WA | 53057 | 2.40
SKAMANIA | WA | 53059 | 2.40
SNOHOMISH | WA | 53061 | 2.40
SPOKANE | WA | 53063 | 2.40
STEVENS | WA | 53065 | 2.40
THURSTON | WA | 53067 | 2.40
WAHKIAKUM | WA | 53069 | 2.40
WALLA WALLA | WA | 53071 | 2.20
WHATCOM | WA | 53073 | 2.40
WHITMAN | WA | 53075 | 2.20
YAKIMA | WA | 53077 | 2.20
BARBOUR | WV | 54001 | 4.30
BERKELEY | WV | 54003 | 4.30
BOONE | WV | 54005 | 4.50
BRAXTON | WV | 54007 | 4.30
BROOKE | WV | 54009 | 4.00
CABELL | WV | 54011 | 4.30
CALHOUN | WV | 54013 | 4.30
CLAY | WV | 54015 | 4.30
DODDRIDGE | WV | 54017 | 4.30
FAYETTE | WV | 54019 | 4.50
GILMER | WV | 54021 | 4.30
GRANT | WV | 54023 | 4.30
GREENBRIER | WV | 54025 | 4.50
HAMPSHIRE | WV | 54027 | 4.30
HANCOCK | WV | 54029 | 4.00
HARDY | WV | 54031 | 4.30
HARRISON | WV | 54033 | 4.30
JACKSON | WV | 54035 | 4.30
JEFFERSON | WV | 54037 | 4.30
KANAWHA | WV | 54039 | 4.30
LEWIS | WV | 54041 | 4.30
LINCOLN | WV | 54043 | 4.50
LOGAN | WV | 54045 | 4.50
MCDOWELL | WV | 54047 | 4.80
MARION | WV | 54049 | 4.00
MARSHALL | WV | 54051 | 4.00
MASON | WV | 54053 | 4.30
MERCER | WV | 54055 | 4.80
MINERAL | WV | 54057 | 4.10
MINGO | WV | 54059 | 4.50
MONONGALIA | WV | 54061 | 4.10
MONROE | WV | 54063 | 4.80
MORGAN | WV | 54065 | 4.30
NICHOLAS | WV | 54067 | 4.50
OHIO | WV | 54069 | 4.00
PENDLETON | WV | 54071 | 4.30
PLEASANTS | WV | 54073 | 4.00
POCAHONTAS | WV | 54075 | 4.50
PRESTON | WV | 54077 | 4.10
PUTNAM | WV | 54079 | 4.30
RALEIGH | WV | 54081 | 4.50
RANDOLPH | WV | 54083 | 4.30
RITCHIE | WV | 54085 | 4.30
ROANE | WV | 54087 | 4.30
SUMMERS | WV | 54089 | 4.80
TAYLOR | WV | 54091 | 4.30
TUCKER | WV | 54093 | 4.30
TYLER | WV | 54095 | 4.00
UPSHUR | WV | 54097 | 4.30
WAYNE | WV | 54099 | 4.50
WEBSTER | WV | 54101 | 4.50
WETZEL | WV | 54103 | 4.00
WIRT | WV | 54105 | 4.30
WOOD | WV | 54107 | 4.00
WYOMING | WV | 54109 | 4.80
ADAMS | WI | 55001 | 2.90
ASHLAND | WI | 55003 | 2.80
BARRON | WI | 55005 | 2.80
BAYFIELD | WI | 55007 | 2.80
BROWN | WI | 55009 | 2.90
BUFFALO | WI | 55011 | 2.80
BURNETT | WI | 55013 | 2.80
CALUMET | WI | 55015 | 2.90
CHIPPEWA | WI | 55017 | 2.80
CLARK | WI | 55019 | 2.80
COLUMBIA | WI | 55021 | 2.90
CRAWFORD | WI | 55023 | 2.90
DANE | WI | 55025 | 2.90
DODGE | WI | 55027 | 2.90
DOOR | WI | 55029 | 2.90
DOUGLAS | WI | 55031 | 2.80
DUNN | WI | 55033 | 2.80
EAU CLAIRE | WI | 55035 | 2.80
FLORENCE | WI | 55037 | 2.80
FOND DU LAC | WI | 55039 | 2.90
FOREST | WI | 55041 | 2.80
GRANT | WI | 55043 | 2.90
GREEN | WI | 55045 | 2.90
GREEN LAKE | WI | 55047 | 2.90
IOWA | WI | 55049 | 2.90
IRON | WI | 55051 | 2.80
JACKSON | WI | 55053 | 2.80
JEFFERSON | WI | 55055 | 2.90
JUNEAU | WI | 55057 | 2.90
KENOSHA | WI | 55059 | 3.10
KEWAUNEE | WI | 55061 | 2.90
LA CROSSE | WI | 55063 | 2.90
LAFAYETTE | WI | 55065 | 2.90
LANGLADE | WI | 55067 | 2.90
LINCOLN | WI | 55069 | 2.80
MANITOWOC | WI | 55071 | 2.90
MARATHON | WI | 55073 | 2.90
MARINETTE | WI | 55075 | 2.90
MARQUETTE | WI | 55077 | 2.90
MENOMINEE | WI | 55078 | 2.90
MILWAUKEE | WI | 55079 | 3.10
MONROE | WI | 55081 | 2.90
OCONTO | WI | 55083 | 2.90
ONEIDA | WI | 55085 | 2.80
OUTAGAMIE | WI | 55087 | 2.90
OZAUKEE | WI | 55089 | 3.10
PEPIN | WI | 55091 | 2.80
PIERCE | WI | 55093 | 2.80
POLK | WI | 55095 | 2.80
PORTAGE | WI | 55097 | 2.90
PRICE | WI | 55099 | 2.80
RACINE | WI | 55101 | 3.10
RICHLAND | WI | 55103 | 2.90
ROCK | WI | 55105 | 2.90
RUSK | WI | 55107 | 2.80
ST. CROIX | WI | 55109 | 2.80
SAUK | WI | 55111 | 2.90
SAWYER | WI | 55113 | 2.80
SHAWANO | WI | 55115 | 2.90
SHEBOYGAN | WI | 55117 | 2.90
TAYLOR | WI | 55119 | 2.80
TREMPEALEAU | WI | 55121 | 2.80
VERNON | WI | 55123 | 2.90
VILAS | WI | 55125 | 2.80
WALWORTH | WI | 55127 | 3.10
WASHBURN | WI | 55129 | 2.80
WASHINGTON | WI | 55131 | 2.90
WAUKESHA | WI | 55133 | 2.90
WAUPACA | WI | 55135 | 2.90
WAUSHARA | WI | 55137 | 2.90
WINNEBAGO | WI | 55139 | 2.90
WOOD | WI | 55141 | 2.90
ALBANY | WY | 56001 | 2.40
BIG HORN | WY | 56003 | 2.40
CAMPBELL | WY | 56005 | 2.40
CARBON | WY | 56007 | 2.40
CONVERSE | WY | 56009 | 2.40
CROOK | WY | 56011 | 2.40
FREMONT | WY | 56013 | 2.40
GOSHEN | WY | 56015 | 2.40
HOT SPRINGS | WY | 56017 | 2.40
JOHNSON | WY | 56019 | 2.40
LARAMIE | WY | 56021 | 2.50
LINCOLN | WY | 56023 | 2.20
NATRONA | WY | 56025 | 2.40
NIOBRARA | WY | 56027 | 2.40
PARK | WY | 56029 | 2.20
PLATTE | WY | 56031 | 2.40
SHERIDAN | WY | 56033 | 2.40
SUBLETTE | WY | 56035 | 2.20
SWEETWATER | WY | 56037 | 2.40
TETON | WY | 56039 | 2.20
UINTA | WY | 56041 | 2.20
WASHAKIE | WY | 56043 | 2.40
WESTON | WY | 56045 | 2.40

5. Amend § 1000.76 by:

a. Removing the text “and § 1135.11 of this chapter” wherever it appears; and

b. Revising and republishing paragraphs (a)(2) through (4) and paragraph (c).

The revisions and republications read as follows:

§ 1000.76 Payments by a handler operating a partially regulated distributing plant.

* * * * *

(a) * * *

(2) For orders with multiple component pricing, compute a Class I differential price by subtracting Class III price from the current month's applicable Class I price. Multiply the pounds remaining after the computation in paragraph (a)(1)(iii) of this section by the amount by which the Class I differential price exceeds the producer price differential, both prices to be applicable at the location of the partially regulated distributing plant except that neither the adjusted Class I differential price nor the adjusted producer price differential shall be less than zero;

(3) For orders with skim milk and butterfat pricing, multiply the remaining pounds by the amount by which the applicable Class I price exceeds the uniform price, both prices to be applicable at the location of the partially regulated distributing plant except that neither the adjusted Class I price nor the adjusted uniform price differential shall be less than the lowest announced class price; and

(4) Unless the payment option described in paragraph (d) of this section is selected, add the amount obtained from multiplying the pounds of labeled reconstituted milk included in paragraph (a)(1)(iii) of this section by any positive difference between the applicable Class I price at the location of the partially regulated distributing plant (less $1.00 if the reconstituted milk is labeled as such) and the Class IV price.

* * * * *

(c) The operator of a partially regulated distributing plant that is subject to marketwide pooling of returns under a milk classification and pricing program that is imposed under the authority of a State government shall pay on or before the 25th day after the end of the month (except as provided in § 1000.90) to the market administrator for the producer-settlement fund an amount computed as follows: after completing the computations described in paragraphs (a)(1)(i) and (ii) of this section, determine the value of the remaining pounds of fluid milk products disposed of as route disposition in the marketing area by multiplying the hundredweight of such pounds by the amount, if greater than zero, that remains after subtracting the State program's class prices applicable to such products at the plant's location from the applicable Federal order Class I price at the location of the plant.

* * * * *

PART 1001—MILK IN THE NORTHEAST MARKETING AREA

6. The authority citation for part 1001 continues to read as follows:

Authority: 7 U.S.C. 601-674, and 7253.

7. Amend § 1001.60 by:

a. Revising the introductory text;

b. Redesignating paragraph (i) as paragraph (j); and

c. Adding new paragraph (i).

The revision and addition read as follows:

§ 1001.60 Handler's value of milk.

For the purpose of computing a handler's obligation for producer milk, the market administrator shall determine for each month the value of milk of each handler with respect to each of the handler's pool plants and of each handler described in § 1000.9(c) of this chapter with respect to milk that was not received at a pool plant by adding the amounts computed in paragraphs (a) through (i) of this section and subtracting from that total amount the value computed in paragraph (j) of this section. Unless otherwise specified, the skim milk, butterfat, and the combined pounds of skim milk and butterfat referred to in this section shall result from the steps set forth in § 1000.44(a) through (c) of this chapter, respectively, and the nonfat components of producer milk in each class shall be based upon the proportion of such components in producer skim milk. Receipts of nonfluid milk products that are distributed as labeled reconstituted milk for which payments are made to the producer-settlement fund of another Federal order under § 1000.76(a)(4) or (d) of this chapter shall be excluded from pricing under this section.

* * * * *

(i) Compute an adjustment for eligible Class I producer milk pursuant to § 1000.43(e) of this chapter by multiplying the Class I skim milk price adjuster computed in § 1000.50(r) of this chapter by the pounds of skim milk eligible in Class I.

* * * * *

PART 1005—MILK IN THE APPLACHIAN MARKETING AREA

8. The authority citation for part 1005 continues to read as follows:

Authority: 7 U.S.C. 601-674, and 7253.

9. Amend § 1005.51 by revising paragraph (a) and removing and reserving paragraph (b) to read as follows:

§ 1005.51 Class I differential, adjustments to Class I prices, and Class I price.

(a) The Class I differential shall be the differential established for Mecklenburg County, North Carolina, which is reported in § 1000.52 of this chapter. The Class I price shall be the price computed pursuant to § 1000.50(a) of this chapter for Mecklenburg County, North Carolina.

(b) [Reserved]

10. Amend § 1005.60 by:

a. Revising the introductory text and paragraph (a);

b. Removing paragraph (g);

c. Redesignating paragraph (f) as paragraph (g); and

d. Adding new paragraph (f).

The revisions and addition read as follows:

§ 1005.60 Handler's value of milk.

For the purpose of computing a handler's obligation for producer milk, the market administrator shall determine for each month the value of milk of each handler with respect to each of the handler's pool plants and of each handler described in § 1000.9(c) of this chapter with respect to milk that was not received at a pool plant by adding the amounts computed in paragraphs (a) through (f) of this section and subtracting from that total amount the value computed in paragraph (g) of this section. Receipts of nonfluid milk products that are distributed as labeled reconstituted milk for which payments are made to the producer-settlement fund of another Federal order under § 1000.76(a)(4) or (d) of this chapter shall be excluded from pricing under this section.

(a) Multiply the pounds of skim milk and butterfat in producer milk that were classified in each class pursuant to § 1000.44(c) of this chapter by the applicable skim milk and butterfat prices, and add the resulting amounts;

* * * * *

(f) Compute an adjustment for eligible Class I producer milk pursuant to § 1000.43(e) of this chapter by multiplying the Class I skim milk price adjuster computed in § 1000.50(r) of this chapter by the pounds of skim milk eligible in Class I.

* * * * *

PART 1006—MILK IN THE FLORIDA MARKETING AREA

11. The authority citation for part 1006 continues to read as follows:

Authority: 7 U.S.C. 601-674, and 7253.

12. Amend § 1006.51 by revising paragraph (a), removing and reserving paragraph (b), and removing paragraph (c) to read as follows:

§ 1006.51 Class I differential, adjustments to Class I prices, and Class I price.

(a) The Class I differential shall be the differential established for Hillsborough County, Florida, which is reported in § 1000.52 of this chapter. The Class I price shall be the price computed pursuant to § 1000.50(a) of this chapter for Hillsborough County, Florida.

(b) [Reserved]

13. Amend § 1006.60 by:

a. Revising the introductory text and paragraph (a);

b. Removing paragraphs (g) through (i);

c. Redesignating paragraph (f) as paragraph (g); and

d. Adding new paragraph (f).

The revisions and addition read as follows:

§ 1006.60 Handler's value of milk.

For the purpose of computing a handler's obligation for producer milk, the market administrator shall determine for each month the value of milk of each handler with respect to each of the handler's pool plants and of each handler described in § 1000.9(c) of this chapter with respect to milk that was not received at a pool plant by adding the amounts computed in paragraphs (a) through (f) of this section and subtracting from that total amount the value computed in paragraph (g) of this section. Receipts of nonfluid milk products that are distributed as labeled reconstituted milk for which payments are made to the producer-settlement fund of another Federal order under § 1000.76(a)(4) or (d) of this chapter shall be excluded from pricing under this section.

(a) Multiply the pounds of skim milk and butterfat in producer milk that were classified in each class pursuant to § 1000.44(c) of this chapter by the applicable skim milk and butterfat prices, and add the resulting amounts;

* * * * *

(f) Compute an adjustment for eligible Class I producer milk pursuant to § 1000.43(e) of this chapter by multiplying the Class I skim milk price adjuster computed in § 1000.50(r) of this chapter by the pounds of skim milk eligible in Class I.

* * * * *

PART 1007—MILK IN THE SOUTHEAST MARKETING AREA

14. The authority citation for part 1007 continues to read as follows:

Authority: 7 U.S.C. 601-674, and 7253.

15. Amend § 1007.51 by revising paragraph (a) and removing and reserving paragraph (b) to read as follows:

§ 1007.51 Class I differential, adjustments to Class I prices, and Class I price.

(a) The Class I differential shall be the differential established for Fulton County, Georgia, which is reported in § 1000.52 of this chapter. The Class I price shall be the price computed pursuant to § 1000.50(a) of this chapter for Fulton County, Georgia.

(b) [Reserved]

16. Amend § 1007.60 by:

a. Revising the introductory text and paragraph (a);

b. Removing paragraph (g);

c. Redesignating paragraph (f) as paragraph (g); and

d. Adding new paragraph (f).

The revisions and addition read as follows:

§ 1007.60 Handler's value of milk.

For the purpose of computing a handler's obligation for producer milk, the market administrator shall determine for each month the value of milk of each handler with respect to each of the handler's pool plants and of each handler described in § 1000.9(c) of this chapter with respect to milk that was not received at a pool plant by adding the amounts computed in paragraphs (a) through (f) of this section and subtracting from that total amount the value computed in paragraph (g) of this section. Receipts of nonfluid milk products that are distributed as labeled reconstituted milk for which payments are made to the producer-settlement fund of another Federal order under § 1000.76(a)(4) or (d) of this chapter shall be excluded from pricing under this section.

(a) Multiply the pounds of skim milk and butterfat in producer milk that were classified in each class pursuant to § 1000.44(c) of this chapter by the applicable skim milk and butterfat prices, and add the resulting amounts;

* * * * *

(f) Compute an adjustment for eligible Class I producer milk pursuant to § 1000.43(e) of this chapter by multiplying the Class I skim milk price adjuster computed in § 1000.50(r) of this chapter by the pounds of skim milk eligible in Class I.

* * * * *

PART 1030—MILK IN THE UPPER MIDWEST MARKETING AREA

17. The authority citation for part 1030 continues to read as follows:

Authority: 7 U.S.C. 601-674, and 7253.

18. Amend § 1030.60 by:

a. Revising the introductory text;

b. Redesignating paragraphs (j) and (k) as paragraphs (k) and (l); and

c. Adding new paragraph (j).

The revision and addition read as follows:

§ 1030.60 Handler's value of milk.

For the purpose of computing a handler's obligation for producer milk, the market administrator shall determine for each month the value of milk of each handler with respect to each of the handler's pool plants and of each handler described in § 1000.9(c) of this chapter with respect to milk that was not received at a pool plant by adding the amounts computed in paragraphs (a) through (j) of this section and subtracting from that total amount the values computed in paragraphs (k) and (l) of this section. Unless otherwise specified, the skim milk, butterfat, and the combined pounds of skim milk and butterfat referred to in this section shall result from the steps set forth in § 1000.44(a) through (c) of this chapter, respectively, and the nonfat components of producer milk in each class shall be based upon the proportion of such components in producer skim milk. Receipts of nonfluid milk products that are distributed as labeled reconstituted milk for which payments are made to the producer-settlement fund of another Federal order under § 1000.76(a)(4) or (d) of this chapter shall be excluded from pricing under this section.

* * * * *

(j) Compute an adjustment for eligible Class I producer milk pursuant to § 1000.43(e) of this chapter by multiplying the Class I skim milk price adjuster computed in § 1000.50(r) of this chapter by the pounds of skim milk eligible in Class I.

* * * * *

PART 1032—MILK IN THE CENTRAL MARKETING AREA

19. The authority citation for part 1032 continues to read as follows:

Authority: 7 U.S.C. 601-674, and 7253.

20. Amend § 1032.60 by:

a. Revising the introductory text;

b. Redesignating paragraph (j) as paragraph (k); and

c. Adding new paragraph (j).

The revision and addition read as follows:

§ 1032.60 Handler's value of milk.

For the purpose of computing a handler's obligation for producer milk, the market administrator shall determine for each month the value of milk of each handler with respect to each of the handler's pool plants and of each handler described in § 1000.9(c) of this chapter with respect to milk that was not received at a pool plant by adding the amounts computed in paragraphs (a) through (j) of this section and subtracting from that total amount the value computed in paragraph (k) of this section. Unless otherwise specified, the skim milk, butterfat, and the combined pounds of skim milk and butterfat referred to in this section shall result from the steps set forth in § 1000.44(a) through (c) of this chapter, respectively, and the nonfat components of producer milk in each class shall be based upon the proportion of such components in producer skim milk. Receipts of nonfluid milk products that are distributed as labeled reconstituted milk for which payments are made to the producer-settlement fund of another Federal order under § 1000.76(a)(4) or (d) of this chapter shall be excluded from pricing under this section.

* * * * *

(j) Compute an adjustment for eligible Class I producer milk pursuant to § 1000.43(e) of this chapter by multiplying the Class I skim milk price adjuster computed in § 1000.50(r) of this chapter by the pounds of skim milk eligible in Class I.

* * * * *

PART 1033—MILK IN THE MIDEAST MARKETING AREA

21. The authority citation for part 1033 continues to read as follows:

Authority: 7 U.S.C. 601-674, and 7253.

22. Amend § 1033.60 by:

a. Revising the introductory text;

b. Redesignating paragraph (j) as paragraph (k); and

c. Adding new paragraph (j).

The revision and addition read as follows:

§ 1033.60 Handler's value of milk.

For the purpose of computing a handler's obligation for producer milk, the market administrator shall determine for each month the value of milk of each handler with respect to each of the handler's pool plants and of each handler described in § 1000.9(c) of this chapter with respect to milk that was not received at a pool plant by adding the amounts computed in paragraphs (a) through (j) of this section and subtracting from that total amount the value computed in paragraph (k) of this section. Unless otherwise specified, the skim milk, butterfat, and the combined pounds of skim milk and butterfat referred to in this section shall result from the steps set forth in § 1000.44(a) through (c) of this chapter, respectively, and the nonfat components of producer milk in each class shall be based upon the proportion of such components in producer skim milk. Receipts of nonfluid milk products that are distributed as labeled reconstituted milk for which payments are made to the producer-settlement fund of another Federal order under § 1000.76(a)(4) or (d) of this chapter shall be excluded from pricing under this section.

* * * * *

(j) Compute an adjustment for eligible Class I producer milk pursuant to § 1000.43(e) of this chapter by multiplying the Class I skim milk price adjuster computed in § 1000.50(r) of this chapter by the pounds of skim milk eligible in Class I.

* * * * *

PART 1051—MILK IN THE CALIFORNIA MARKETING AREA

23. The authority citation for part 1051 continues to read as follows:

Authority: 7 U.S.C. 601-674, and 7253.

24. Amend § 1051.60 by:

a. Revising the introductory text;

b. Redesignating paragraph (i) as paragraph (j); and

c. Adding new paragraph (i).

The revision and addition read as follows:

§ 1051.60 Handler's value of milk.

For the purpose of computing a handler's obligation for producer milk, the market administrator shall determine for each month the value of milk of each handler with respect to each of the handler's pool plants and of each handler described in § 1000.9(c) of this chapter with respect to milk that was not received at a pool plant by adding the amounts computed in paragraphs (a) through (i) of this section and subtracting from that total amount the value computed in paragraph (j) of this section. Unless otherwise specified, the skim milk, butterfat, and the combined pounds of skim milk and butterfat referred to in this section shall result from the steps set forth in § 1000.44(a) through (c) of this chapter, respectively, and the nonfat components of producer milk in each class shall be based upon the proportion of such components in producer skim milk. Receipts of nonfluid milk products that are distributed as labeled reconstituted milk for which payments are made to the producer-settlement fund of another Federal order under § 1000.76(a)(4) or (d) of this chapter shall be excluded from pricing under this section.

* * * * *

(i) Compute an adjustment for eligible Class I producer milk pursuant to § 1000.43(e) of this chapter by multiplying the Class I skim milk price adjuster computed in § 1000.50(r) of this chapter by the pounds of skim milk eligible in Class I.

* * * * *

PART 1124—MILK IN THE PACIFIC NORTWEST MARKETING AREA

25. The authority citation for part 1124 continues to read as follows:

Authority: 7 U.S.C. 601-674, and 7253.

26. Amend § 1124.60 by:

a. Revising the introductory text;

b. Redesignating paragraph (i) as paragraph (j); and

c. Adding new paragraph (i).

The revision and addition read as follows:

§ 1124.60 Handler's value of milk.

For the purpose of computing a handler's obligation for producer milk, the market administrator shall determine for each month the value of milk of each handler with respect to each of the handler's pool plants and of each handler described in § 1000.9(c) of this chapter with respect to milk that was not received at a pool plant by adding the amounts computed in paragraphs (a) through (i) of this section and subtracting from that total amount the value computed in paragraph (j) of this section. Unless otherwise specified, the skim milk, butterfat, and the combined pounds of skim milk and butterfat referred to in this section shall result from the steps set forth in § 1000.44(a) through (c) of this chapter, respectively, and the nonfat components of producer milk in each class shall be based upon the proportion of such components in producer skim milk. Receipts of nonfluid milk products that are distributed as labeled reconstituted milk for which payments are made to the producer-settlement fund of another Federal order under § 1000.76(a)(4) or (d) of this chapter shall be excluded from pricing under this section.

* * * * *

(i) Compute an adjustment for eligible Class I producer milk pursuant to § 1000.43(e) of this chapter by multiplying the Class I skim milk price adjuster computed in § 1000.50(r) of this chapter by the pounds of skim milk eligible in Class I.

* * * * *

PART 1126—MILK IN THE SOUTHWEST MARKETING AREA

27. The authority citation for part 1126 continues to read as follows:

Authority: 7 U.S.C. 601-674, and 7253.

28. Amend § 1126.60 by:

a. Revising the introductory text;

b. Redesignating paragraph (j) as paragraph (k); and

c. Adding new paragraph (j).

The revision and addition read as follows:

§ 1126.60 Handler's value of milk.

For the purpose of computing a handler's obligation for producer milk, the market administrator shall determine for each month the value of milk of each handler with respect to each of the handler's pool plants and of each handler described in § 1000.9(c) of this chapter with respect to milk that was not received at a pool plant by adding the amounts computed in paragraphs (a) through (j) of this section and subtracting from that total amount the value computed in paragraph (k) of this section. Unless otherwise specified, the skim milk, butterfat, and the combined pounds of skim milk and butterfat referred to in this section shall result from the steps set forth in § 1000.44(a) through (c) of this chapter, respectively, and the nonfat components of producer milk in each class shall be based upon the proportion of such components in producer skim milk. Receipts of nonfluid milk products that are distributed as labeled reconstituted milk for which payments are made to the producer-settlement fund of another Federal order under § 1000.76(a)(4) or (d) of this chapter shall be excluded from pricing under this section.

* * * * *

(j) Compute an adjustment for eligible Class I producer milk pursuant to § 1000.43(e) of this chapter by multiplying the Class I skim milk price adjuster computed in § 1000.50(r) of this chapter by the pounds of skim milk eligible in Class I.

* * * * *

PART 1131—MILK IN THE ARIZONA MARKETING AREA

29. The authority citation for part 1131 continues to read as follows:

Authority: 7 U.S.C. 601-674, and 7253.

30. Amend § 1131.60 by:

a. Revising the introductory text;

b. Redesignating paragraph (f) as paragraph (g); and

c. Adding new paragraph (f).

The revision and addition read as follows:

§ 1131.60 Handler's value of milk.

For the purpose of computing a handler's obligation for producer milk, the market administrator shall determine for each month the value of milk of each handler with respect to each of the handler's pool plants and of each handler described in § 1000.9(c) of this chapter with respect to milk that was not received at a pool plant by adding the amounts computed in paragraphs (a) through (f) of this section and subtracting from that total amount the value computed in paragraph (g) of this section. Receipts of nonfluid milk products that are distributed as labeled reconstituted milk for which payments are made to the producer-settlement fund of another Federal order under § 1000.76(a)(4) or (d) of this chapter shall be excluded from pricing under this section.

* * * * *

(f) Compute an adjustment for eligible Class I producer milk pursuant to § 1000.43(e) of this chapter by multiplying the Class I skim milk price adjuster computed in § 1000.50(r) of this chapter by the pounds of skim milk eligible in Class I.

* * * * *

PART 1170—DAIRY PRODUCT MANDATORY REPORTING

31. The authority citation for part 1170 continues to read as follows:

Authority: 7 U.S.C. 1637-1637b, as amended by Pub. L. 106-532, 114 Stat. 2541; Pub. L. 107-171, 116 Stat. 207; and Pub. L. 111-239, 124 Stat. 2501.

32. Amend § 1170.8 by revising and republishing paragraph (a) to read as follows:

§ 1170.8 Price reporting specifications.

* * * * *

(a) Specifications for Cheddar Cheese Prices:

(1) Variety: Cheddar cheese.

(2) Style: 40-pound blocks.

(3) Age: Not less than 4 days or more than 30 days on date of sale. Exclude cheese that will be aged.

(4) Grade: Product meets Wisconsin State Brand or USDA Grade A or better standards.

(5) Color: Colored and within the color range of 6-8 on the National Cheese Institute color chart.

(6) Packaging: Price should reflect cheese wrapped in a sealed, airtight package in corrugated or solid fiberboard containers with a reinforcing inner liner or sleeve. Exclude all other packaging costs from the reported price.

(7) Exclude: Intra-company sales, resales of purchased cheese, forward pricing sales (sales in which the selling price was set [not adjusted] 30 or more days before the transaction was completed), cheese produced under faith-based close supervision and marketed at a higher price than the manufacturer's wholesale market price for the basic commodity (for example, kosher cheese produced with a rabbi on site who is actively involved in supervision of the production process), sales under the Dairy Export Incentive Program or other premium-assisted sales (for example, export assistance sales through the Cooperatives Working Together program), and cheese certified as organic by a USDA-accredited certifying agent.

* * * * *

Erin Morris,
Associate Administrator, Agricultural Marketing Service.

[FR Doc. 2025-00563 Filed 1-16-25; 8:45 am]

BILLING CODE P